OFFICE OF MANAGEMENT AND BUDGET

Compliance Assistance Resources and Points of Contact Available to Small Businesses

AGENCY: Office of Management and Budget, Executive Office of the President.

ACTION: Notice.

SUMMARY: In accord with the Small Business Paperwork Relief Act of 2002, the Office of Management and Budget (OMB) is publishing a “list of the compliance assistance resources available to small businesses” and a list of the points of contacts in agencies “to act as a liaison between the agency and small business concerns” with respect to the collection of information and the control of paperwork.

FOR FURTHER INFORMATION CONTACT: Mr. Jefferson B. Hill, Office of Information and Regulatory Affairs, OMB, Washington, DC 20503 (202/395-3176). Inquiries may be submitted by facsimile to 202/395-7285. Electronic mail inquiries may be submitted to jhill@omb.eop.gov.

SUPPLEMENTARY INFORMATION:

A. Background

The Small Business Paperwork Relief Act of 2002 (Public Law 107-198) requires OMB to “publish in the Federal Register and make available on the Internet (in consultation with the Small Business Administration) * * * a list of the compliance assistance resources available to small businesses * * *” (44 U.S.C. 3504(c)(6)). In addition, under another provision of this Act, “each agency shall, with respect to the collection of information and the control of paperwork, establish 1 point of contact in the agency to act as a liaison between the agency and small business concerns * * *” (44 U.S.C. 3506(i)(1)).

Working in cooperation with the Small Business and Agriculture Enforcement Ombudsman (SBA Ombudsman) in the Small Business Administration, OMB has, with the active assistance and support of the SBA Ombudsman, assembled a list of the compliance assistance resources available to small businesses. Because it may be helpful to the public to have the list of agency contacts together with the list of compliance assistance resources, OMB is publishing these lists together. These lists are also available today on OMB's Web site at http://www.whitehouse.gov/omb/inforeg/infocoll.html. The SBA Ombudsman is also making these lists available today on the SBA Ombudsman's Web site at http://www.sba.gov/ombudsman.

B. Legislative Initiatives

The publication of these lists is part of a more comprehensive effort to assist small businesses. The context for this initiative begins several years ago with enactment of the “Small Business Regulatory Enforcement Fairness Act of 1996” (Public Law 104-121, Title II) (SBREFA). Among other provisions, SBREFA calls on agencies to “publish one or more guides to assist small entities in complying” with certain regulations (Section 212), and “to answer inquiries by small entities concerning information on, and advice about, compliance” with regulatory statutes (Section 213). In other words, Federal regulatory agencies are to develop small entity compliance guides and to answer inquiries, and provide advice, about regulatory compliance issues.

In addition, SBREFA created within the Small Business Administration the office of the “Small Business and Agriculture Enforcement Ombudsman” (Section 222). The SBA Ombudsman's responsibilities involve working “with each agency with regulatory authority over small businesses to ensure that small business concerns [involving the agency's implementation and enforcement of those regulatory authorities] are provided with a means to comment on the enforcement activity” conducted each agency. In other words, the SBA Ombudsman is to monitor, and report annually to Congress, on the enforcement practices of Federal regulatory agencies.

SBREFA was followed by the Small Business Paperwork Relief Act of 2002 (Public Law 107-198) (SBPRA). As described above, this law requires OMB to publish “a list of the compliance assistance resources available to small business.” OMB is also publishing the points of contacts in agencies who are “to act as a liaison between the agency and small business concerns” with respect to the collection of information and the control of paperwork.

In addition, this statute directed the Director of OMB to convene and have a representative chair a Task Force “to study the feasibility of streamlining requirements with respect to small business concerns regarding collection of information and strengthening dissemination of information” (44 U.S.C. 3520). The Small Business Paperwork Relief Task Force has been developing recommendations to improve and more closely link the existing assistance resources through the use of information technology. More specifically, the Small Business Paperwork Relief Task Force is charged with examining five ways to reduce the information collection burden placed by government on small business concerns. They are:

1. Examine the feasibility and desirability of requiring the consolidation of information collection requirements within and across Federal agencies and programs, and identify ways of doing so.

2. Examine the feasibility and benefits to small businesses of having OMB publish a list of data collections organized in a manner by which they can more easily identify requirements with which they are expected to comply.

3. Examine the savings and develop recommendations for implementing electronic submissions of information to the Federal government with immediate feedback to the submitter.

4. Make recommendations to improve the electronic dissemination of information collected under Federal requirements.

5. Recommend a plan to develop an interactive Government-wide Internet program to identify applicable collections and facilitate compliance.

SBPRA requires OMB to publish a report on the first three topics by June 28, 2003. On May 9, 2003, OMB published in the Federal Register a “Draft Report of the Small Business Paperwork Relief Task Force” (68 FR 25166, Part III). As required, this draft report discussed the first three topics listed above. The final “Report of the Small Business Paperwork Relief Task Force” is available on OMB's Web site at http://www.whitehouse.gov/omb/inforeg/infocoll.html. By June 28, 2004, the Small Business Paperwork Relief Task Force will respond to Items 4 and 5 mentioned above.

SBREFA and SBPRA are closely related. SBREFA focuses on helping small businesses understand how to comply with Federal regulations. SBPRA focuses on helping small businesses understand how to comply with Federal collections of information—that is, filling out forms, reporting information, and keeping certain records. These two types of requirements are related because, as the Task Force report noted, agencies generally collect information, or require those regulated to keep records, as part of regulatory provisions. The information-related provisions are designed to help the agency ensure compliance with the rule.

The close functional linkage between compliance with Federal regulations and with Federal reporting and recordkeeping requirements suggests it is important to coordinate these legislative initiatives designed to assist small businesses. It is also the reason that the development, in particular, of the list of compliance assistance resources available to small businesses should be viewed in the context of the recommendations being developed by the Small Business Paperwork Relief Task Force. The list of compliance assistance resources describes what is now available at the Federal agencies. The Task Force is developing recommendations, for example, on how to develop an interactive Government-wide Internet program to identify applicable information collections and facilitate compliance. In other words, the Task Force is trying to develop recommendations to improve and more closely link the existing assistance resources through the use of information technology.

Donald R. Arbuckle,
Deputy Administrator, Office of Information and Regulatory Affairs.

Compliance Assistance Summaries and Points of Contact

Agriculture

Food Safety Inspection Service (FSIS)

FSIS offers compliance assistance to small meat, poultry, and egg product plants. The FSIS publishes supporting documentation and guidance materials for federally inspected establishments to use in designing and implementing sanitation standard operating procedures and hazard analysis and critical control point (HACCP) food safety systems. FSIS provides technical guidance on many subjects of regulation, including requirements for plant sanitation, the use of food ingredients and food irradiation sources, and the control of pathogens. Also, to help meet the challenges our Nation has faced since September 11, 2001, FSIS has published security guidelines for food producing establishments. Many FSIS publications are available in languages besides English. Web addresses for these publications are:

• Sanitation Compliance Guide: http://www.fsis.usda.gov/OPPDE/rdad/FRPubs/SanitationCover.htm.

• Federal Register Rule on Cooling and Chilling Requirements For Raw Meat and Poultry: http://www.fsis.usda.gov/oa/fr/rule2.pdf.

• Draft of FSIS Microbiological Hazard Identification Guide For Meat And Poultry Components Of Products Produced By Very Small Plants: http://www.fsis.usda.gov/OA/haccp/hidguide.htm.

• Advice on Controlling Listeria Monocytogenes in Small and Very Small Meat and Poultry Plants: http://www.fsis.usda.gov/OPPDE/Nis/Outreach/Listeria.htm.

• Federal Register Publications and Supporting Documents: http://www.fsis.usda.gov/OPPDE/rdad/publications.htm.

• FSIS Security Guidelines for Food Processors: http://www.fsis.usda.gov/oa/topics/SecurityGuide.pdf.

Besides its publications, FSIS offers a telephone service, FSIS HACCP Hotline (1-800-233-3935) to help establishments solve problems arising from HACCP plan development and implementation. Assistance on general matters involving meat, poultry, and egg products is available from the FSIS Technical Service Center (402-221-7400; Fax: 402-221-7438; e-mail Tech.Center@fsis.usda.gov.

FSIS also operates an extensive small establishment outreach program, featuring FSIS-sponsored workshops and programs, educational material development and distribution, HACCP and food-safety training and training sessions for FSIS consumer safety officers. FSIS consumer safety officers are a highly qualified corps of individuals with the special mission of helping small establishments resolve problems arising in their implementation of HACCP systems. FSIS operates a special food safety outreach program for Native American communities; it includes training for operators of small meat plants.

Through the FSIS network of State cooperators, seminars and training classes on HACCP and food safety are held around the country for operators of food producing establishments. The Outreach Program also distributes multi-media training materials in CD-ROM and video as well as printed formats.

Another useful information source on regulatory compliance is an e-mail service by the FSIS Washington office and directly accessible on the FSIS Web site. This service, FSIS Regulations (Regulations@fsis.usda.gov) gives information on laws, regulations, and policies governing FSIS inspection programs and affecting establishments regulated by FSIS.

Animal and Plant Health Inspection Service (APHIS)

APHIS has made compliance assistance resources available to small business entities in several formats. All work extremely well in that APHIS has not received complaints or negative comments regarding insufficient information or difficulty gaining access. The listing of resources we submitted included four web addresses:

• www.aphis.usda.gov/lpa/pubs—At this site, small entities will find publications and other materials to help explain APHIS programs such as press releases, frequently asked question, publications, industry alerts, technical reports and stakeholder announcements.

• www.aphis.usda.gov/pa/video—This web page provides access to videos about several APHIS programs. With proper equipment, the videos can be viewed from a computer. There is also contact information to obtain copies.

• On-Site Evaluations/Assistance—For on-site assistance, the telephone number for each Regional Office is listed to request inspections, assistance, etc.

• www.aphis.usda.gov/ies—This is the Web site of the SBREFA Contact. It contains program information and contact information. Comments, complaints, and/or suggestions can be sent by on line mail service to IES@aphis.usda.gov.

• Toll Free Telephone—Comments, complaints, and/or suggestions can be made without charge by calling 1-866-5Call IES.

Grain Inspection, Packers and Stockyards Administration (GIPSA)

Publications—Regulation, Rules, Technical and Administrative, Directives, Annual Reports: The Grain Inspection, Packers and Stockyards Administration posts current FGIS directives on the GIPSA Web site at: www.usda.gov/gipsa/pubs.htm. The publications are in PDF format, so they may be printed directly from the web.

Seminars, classes—Technical Training (e.g., Grain Inspection): GIPSA's Technical Services Division (TSD) provides extensive training throughout the official inspection system to ensure uniform, accurate results are provided at all locations. TSD also offers customized industry education services to facilitate the commercial marketing of grain. Topics include the visual grading of any grain, rice, bean, pea, or lentil and objective, non-visual quality tests such as protein, oil, and mycotoxins. Contact Larry McDonald for more information at: larry.h.mcdonald@usda.gov.

Telephone service—information about GIPSA: Responding to customers' needs is GIPSA's main priority. GIPSA designed its programs to concentrate on customers' needs. If customers have comments on GIPSA Customer Service Standards or want information on any GIPSA programs, contact: USDA, GIPSA, STOP 3601, 1400 Independence Avenue, SW, Washington, DC 20250-3601 or telephone: (202) 720-0219.

CD ROM's/Videos—Technical Information (e.g., Procedures for Inspection Grain): GIPSA offers various educational materials created for the U.S. grain industry. They include multimedia CD's and several brochures/handouts. Single copies of CDs are available free by mail and the brochures/handouts are available in PDF format for online viewing and/or download. All materials are public domain and may be freely duplicated and distributed in their original form.

Online/e-mail service—Wide range of information about GIPSA and its programs: Information regarding GIPSA's programs and services can be found in the GIPSA Strategic Plan and on the Agency's Web site at: http://www.usda.gov/gipsa.

Onsite Evaluations/Assistance—Process Verification Program for Grain Handers: GIPSA is considering proposing a new process verification program to meet the market's rapidly evolving needs. In this program, GIPSA would apply internationally recognized quality management standards to verify the quality process used rather than testing actual grain itself. The process verification designation verifies the process, not the final product. The process verification program would give industry participants independent verification of their quality processes and standards, and a way to capture values not easily identified by traditional inspection and testing.

Food and Nutrition Service (FNS)

Small Business Compliance Assistance for Retailers in the Food Stamp Program: FNS has significantly increased compliance assistance efforts to retailers in the Food Stamp Program. FNS staff have attended conferences and held face-to-face meetings with retailers to provide technical assistance and listen to their concerns. FNS has developed several new publications, including a retailer training guide, video and CD-Rom that explain the basic program rules and storeowners' responsibilities in an easy-to-read format. They can be found on the FNS Web site at www.fns.usda.gov/fsp/retailers/ or obtained through local field offices that administer the Food Stamp Program for retailers. FNS is considering translating materials into other languages to accommodate non-English speaking retailers. Retailers can also find general information on the Food Stamp Program at www.fns.usda.gov/fsp/. Food Stamp regulations relating to retailers can be found in the Code of Federal Regulations at 7 CFR Parts 278 and 279 (a link to an electronic version is also available on the general FSP Web site referenced above).

Small Business Compliance Assistance for Farmers' Markets/Retailers in the WIC/FNMP Programs

Child Nutrition Act provisions for the WIC and FMNP Programs make State agencies responsible for the authorization, training, monitoring, and corrective action of small businesses such as retailers, farmers, and farmers' markets. FNS has regulations that establish guidelines and parameters for State administration of these activities. Although some uniformity is imposed by these regulations, there is considerable State discretion, so many of the rules will not be the same from one State to the next. For example, State agencies must accept applications from retailers for WIC authorization at least once every three years, but may do so much more frequently, and each State has its own application form. For another example, States are required to allow only certain types and amounts of food to be transacted for WIC food instruments, but the precise brand, package size, and maximum allowed price varies from State to State. The FNS Web site (http://fns.usda.gov/wic) includes the WIC/FMNP regulations (7 CFR Parts 246 and 248) and lists WIC and FMNP State agency addresses, telephone numbers, and Web sites.

Agricultural Marketing Service (AMS)

The Agricultural Marketing Service (AMS) has a number of compliance assistance programs to help small entities to comply with program regulations. They range from publications to seminars to e-mail assistance to CD-ROMs and videos. The issues they discuss include information on the Perishable Agricultural Commodities Act, marketing orders, the National Organic Program, grading programs, and science & technology programs, among others. All this assistance and contact information can be accessed by clicking the appropriate program's link on the AMS Web site http://ams.usda.gov.

Rural Utilities Service (RUS)

The Rural Utilities Service (RUS) is a financing agency, not a regulating authority. RUS does not have enforcement policies. Its policy on minimum compliance requirements as a condition for financing is to work with the individual applicant/borrower to ensure compliance. RUS does not impose penalties or engage in enforcement activities. Assistance with its programs can be obtained at our Web site at http://www.usda.gov/rus/. This site contains information on all of our programs and complete contact information by subject matter and geographic location. If needed, a RUS field representative can come to your location to provide assistance.

Department of Agriculture Single Point of Contact: Jacquelyn Chandler, Office of Budget and Program Analysis, U.S. Department of Agriculture, 1400 Independence Avenue, SW., Rm. 147-E, Washington, DC 20250. Telephone: 202-720-1516. E-mail: jyc@obpa.usda.gov.

Commerce

The Department of Commerce understands a vibrant small business sector is critical to creating new jobs in a dynamic and growing economy, so it is mindful of its responsibilities under the Small Business Regulatory Enforcement Fairness Act (SBREFA). The Commerce Department provides substantial regulatory enforcement compliance assistance through a variety of media.

Within the Commerce Department, two agencies regulate the activities of small businesses. The National Oceanic and Atmospheric Administration (NOAA) regulate small businesses under several natural resource protection statutes that NOAA enforces, including the Marine Mammal Protection Act, the Endangered Species Act, and the Magnuson-Stevens Fishery Conservation and Management Act. The Bureau of Industry and Security (BIS), formerly the Bureau of Export Administration (BXA), regulates small businesses under the Export Administration Regulations, which set the criteria for authorizing exports of dual-use items—commercial items with potential military or weapons proliferation applications.

NOAA has a comprehensive program providing regulatory compliance guidance and assistance to small entities, which comprise much of NOAA's regulated community. It has long been NOAA's practice to answer inquiries by small entities, when appropriate, in the interest of administering statutes and regulations. NOAA answers tens of thousands of inquiries from small entities annually. Inquiries are received via telephone, mail and electronic mail; during public hearings, town hall meetings and workshops held by NOAA throughout the year; and in day-to-day interactions small entities have with NOAA. NOAA distributes compliance guides to all those to whom a rule will apply and to others who have expressed interest. It makes them available at sites where affected parties are likely to see them. The guides may take different forms to best serve the needs of the parties affected by a particular rule.

• NOAA Toll-Free Enforcement Hotline: 1-800-853-1964.

• NOAA Office for Law Enforcement: http://www.noaa.gov/ole/.

• NOAA Law Enforcement Contacts: http://nmfs.noaa.gov/ole/contacts.html.

NOAA program offices often prepare “plain English” summaries of new regulations and distribute them by fax to the regulated communities and the press. For complex regulations, question/answer sheets of the most frequently asked questions are often published in the fishery trade journals that are most often read by the affected fishermen. Information about NOAA's regulations and compliance guidance is often posted on NOAA web pages and on electronic bulletin boards.

Additionally, small entities may contact specific program offices responsible for the regulations at issue. Program offices hold informational workshops to explain new regulations and answer questions from the industry concerning compliance. Fishermen, who make up much of the regulated community, often speak with NOAA's individual fishery plan coordinators for guidance in response to specific factual situations described by the fishermen. In permitted fisheries, letters explaining regulatory changes, and providing the name of a person to contact for additional information and guidance, may be sent to each permit holder. NMFS also has public affairs positions in its regional offices that specialize in community outreach.

BIS similarly provides exporters a wide range of compliance assistance. These include compliance guides in the forms of instructional brochures, fact sheets and guidance posted on the BIS Web site. BIS also educates small businesses through seminars, meetings, workshops and, when requested, one-on-one counseling.

• BIS Web site: http://www.bxa.doc.gov/index.htm.

• BIS Export Enforcement Hotline: 1-800-424-2980.

• Office of Export Enforcement Intelligence: (202) 482-1208.

• Exporter Counseling Division: (202) 482-4811.

The Office of Antiboycott Compliance (OAC) within BIS advises small businesses on compliance with the antiboycott regulations through its telephone advice line. Callers can seek compliance advice before engaging in transactions. The OAC also offers counseling to small businesses to assist them in solving their boycott problems legally. Antiboycott Advice Line: (202) 482-2381.

Patent and Trademark Office

U.S. Patent and Trademark Office (USPTO) Office of Procurement awards and administers a wide variety of contracts and simplified purchases for the acquisition of goods and services required throughout the agency. Our site includes helpful links such as current USPTO contracts, upcoming opportunities, office staff listing, helpful information for small businesses, information on our new Performance Based Organization (PBO) procedures and other related topics.

The USPTO Office of Procurement continually strives to remain on the leading edge of procurement reform and current technology. It is our goal to identify and utilize new innovative techniques to develop a partnership with industry.

A major goal at the United States Patent & Trademark Office, Office of Procurement is to promote and give consideration to small business concerns. Requirements over the micro purchase amount of $2,500 are identified early in the acquisition process to allow for consideration for small, small disadvantaged, woman-owned and minority-owned businesses. http://www.uspto.gov/web/offices/ac/comp/proc/ipa/ipamain.htm

The Office of Procurement continues to promote Electronic Commerce (EC) and utilize innovative technologies to streamline procurement processes. Our EC effort, known as the Internet-Based Purchasing Application (IPA), has been in use for over a year now. The IPA continues to grow and is a successful tool in conducting simplified acquisitions over the Internet.

For more information please contact:

Susan K. Brown, Records Officer, (PRA Clearance Desk), U.S. Patent and Trademark Office, Office of the Chief Information Officer, Suite 310, 2231 Crystal Drive, Washington DC 20231, Telephone: 703-308-7400. E-Mail: susan.brown@uspto.gov.

Muriel A. Brown, Small Business Liaison, U.S. Patent and Trademark Office, Office of Procurement, Box 6, Washington, DC 20231. Telephone: 703-305-8370. E-mail: Muriel.brown@uspto.gov.

Department of Commerce Single Point of Contact: Tom Pike, Office of the Chief Information Officer, U.S. Department of Commerce 14th St. & Constitution Ave., NW., Washington, DC 20230, (202) 482-4797.

Defense

It is the Department of Defense (DOD) policy that a fair proportion of DOD total purchases, contracts, subcontracts, and other agreements for property and services be placed with small business concerns, service-disabled veteran-owned small business concerns, qualified historically underutilized business zone (HUBZone) small business concerns, small disadvantaged business concerns, women-owned small business concerns, and historically Black colleges and universities and minority institutions.

The Director of the Office of Small and Disadvantaged Business Utilization (SADBU) is the principal proponent within the Office of the Secretary of Defense for executing national and DOD policy as mandated by the Congress and the President. The Director acts as ombudsman and coordinator with the functional activity concerned in responding to complaints and resolving problems encountered by small business firms performing under DOD contracts.

The Washington Headquarters Services, Directorate for Information Operations and Reports (WHS/DIOR), serves as the central repository for statistical information for the Department of Defense. General procurement data, including subcontract information, is located on the WHS/DIOR Web site at http://www.dior.whs.mil/peidhome/piedhome.htm. Specifically, SADBU utilizes the standard tabulation (ST) 28 report, titled “Contract Awards by FSC and Purchasing Office,” as a key document to assist small business concerns in identifying contracting activities with contracting potential. The ST 28 matches the dollar obligations and contract actions under each specific Federal Supply Class or Service Codes and details the contracting activities that made awards by name, city, and state. The ST 28 can be found at http://www.dior.whs.mil.peidhome/procstat/prostat.htm.

The Defense Logistics Agency, on behalf of the Secretary of Defense, administers the DOD Procurement Technical Assistance Program (PTAP). PTAP Centers are a local resource that can provide assistance to business firms in marketing products and services to the Federal, state and local governments. A list of PTAP Centers can be found at http://www.dla.mil/db/procurem.htm.

The DOD Regional Councils for Small Business Education and Advocacy are a nationwide network of small business specialists organized to promote the National Small Business Programs of the United States. Council objectives include promoting the exchange of ideas and experiences, and general information among small business specialists and the contracting community; developing closer relationships and better communication among Government entities and the small business community; and staying abreast of statutes, policies, regulations, directives, trends, and technology affecting the Small Business Program. There are eight Regional Councils sponsored by the DOD Office of Small and Disadvantaged Business Utilization (SADBU) governed by individual by-laws. Further information can be found at http://www.acq.osd.mil/sadbu/programs/regional/index.htm.

Information on DOD's initiatives and programs is available on SADBU's Web site http://www.acq.osd.mil/sadbu/index.htm. Contact information and links to DOD Component SADBU Offices can be found at http://www.acq.osd.mil/sadbu/links/sadbu.htm.

Department of Defense Single Point of Contact: Robert L. Cushing, Jr., U.S. Department of Defense, Washington Headquarters Services, Directorate for Information Operations and Reports, 1215 Jefferson Davis Highway, Suite 1204, Arlington, VA 22202-4302. Telephone: 703-604-6269. E-mail: cushingr@dior.whs.mil.

Education

• Online library of information on education legislation, research, statistics, and programs: www.ed.gov

• Department of Education programs and initiatives: 1-800-USA-LEARN (1-800-872-5327)

• Student aid: 1-800-4FED-AID (1-800-433-3243)

• Matters affecting small businesses: U.S. Department of Education, Office of Small and Disadvantaged Business Utilization, 400 Maryland Ave., SW., Washington, DC 20202, Telephone: (202) 708-9820

• Student loan issues: www.ombusman.ed.gov, U.S. Department of Education, FSA Ombudsman, 830 First St., NE., 4th Floor, Washington, DC 20202-5144; Telephone: 1-877-557-2575; Fax: (202) 275-0549

Education Department Single Point of Contact: Angela C. Arrington, U.S. Department of Education, Office of the Chief Information Officer, 400 Maryland Ave. SW., Washington, DC 20202. Telephone: (202) 260-6871. E-mail: Angela.Arrington@ed.gov

Energy

The Office of Small & Disadvantaged Business Utilization (OSDBU) and the Office of the Ombudsman handle small business compliance at the U.S. Department of Energy (DOE). And, each site facility and DOE contractor has a small business manager dedicated to small business compliance. (http://www.smallbusiness.energy.gov)

The OSDBU oversees small business programs department-wide, setting policies and procedures to ensure small business compliance in DOE contract awards. The OSDBU also maintains a Web site with a clearinghouse of small business information, as well as small business policies and regulations and information on resources available to small businesses both at DOE and at other agencies/departments. The OSDBU has an extensive outreach/marketing program, including advertising in various publications and participation in various small business conferences.

DOE maintains a number of partnerships with many federal agencies such as the Small Business Administration and the Office of Federal Contract Compliance to promote small business compliance. The OSDBU has a “Small Business Council” composed of representatives of major trade associations, small and minority business chambers, women and veteran groups to ensure information/feedback to/from the small business community relative to small business compliance.

The Office of the Ombudsman provides small business access to an impartial review of their issues in dealing with the DOE and its contractors. The Office gives small business guidance and referral services to the correct entity within DOE and serves as a voice for the small business within DOE.

Department of Energy Single Point of Contact: Theresa Speake, Director, Office of Small & Disadvantaged Business Utilization, U.S. Department of Energy, 1000 Independence Ave., SW., Washington, DC 20585. Telephone: 202-586-8383. E-mail: Theresa.Speake@hq.doe.gov.

Health and Human Services

Office of Small and Disadvantaged Business Utilization

Located in HHS's Office of the Secretary, the Department's Office of Small and Disadvantaged Business Utilization (OSDBU) fosters the use of small and disadvantaged businesses as Federal contractors. To accomplish this task, the OSDBU develops and implements outreach programs aimed at heightening the awareness of small business community to the contracting opportunities available across the Department.

Outreach efforts include activities such as sponsoring small business fairs and procurement conferences as well as participating in trade group seminars, conventions, and other forums, which promote the utilization of small and disadvantaged businesses as contractors. The OSDBU Web page, www.HHS.gov/osbdu, presents important resources to aid contractors in doing business with the Department. OSBDU's Director is Ms. Debbie Ridgeley. Ms. Ridgeley may be contacted by telephone at 202-690-7300, or by E-mail at: Debbie.ridgely@hhs.gov.

The following small business specialists in the Department's Operating Divisions also foster the use of small and disadvantaged businesses as Federal contractors. (See below for narrative information on the small-business activities at the Food and Drug Administration, the Centers for Medicare and Medicaid Services, the Health Resources and Services Administration, and the National Institutes for Health).

Agency for Health Care Research and Quality

Ms. Sherry Baldwin, DHHS-Executive Office Center, 2101 East Jefferson Street, Suite 601, Rockville, MD 20852. Telephone: 301-594-7190. Fax: 301-443-7523. E-mail: sbaldwin@ahrq.gov

Centers for Disease Control and Prevention

Mr. Curtis L. Bryant, 2920 Brandywine Road, Room 2606, Mail Stop E-14, Atlanta, GA 30341. Telephone: 770-488-2806. Fax: 770-488-2828. E-mail: ckb9@cdc.gov

Indian Health Service

Ms. Nelia K. Holder, Office of Management Support, 12300 Twinbrook Parkway, Rockville, MD 20852. Telephone: 301-443-1480. Fax: 301-443-0929. E-mail: nholder@hqe.ihs.gov

Program Support Center

Ms. Linda Danley, Division of Acquisition Management, Room 5C-26, Parklawn Building, 5600 Fishers Lane, Rockville, MD 20857. Telephone: 301-443-1715. Fax: 301-443-7593. E-mail: ldanley@psc.gov

Substance Abuse and Mental Health Services Administration

Ms. Vivian Kim, Room 13-99, Parklawn Building, 5600 Fishers Lane, Rockville, MD 20857. Telephone: 301-443-8843. Fax: 301-594-2336. E-mail: Vkim@samhsa.gov

Food and Drug Association (FDA)

FDA provides a wealth of written and electronic information to assist small business compliance with FDA regulatory requirements.

FDA has published hundreds of guidelines to assist regulated industry, including small business, in complying with the laws and regulations that FDA administers. These guidelines cover virtually all areas that FDA regulates, from new drug and medical device premarket review, to product import and export issues, to issues that relate to the manufacture of foods, drugs, devices, and biological products.

FDA has also published and made widely available guidelines that the agency has developed for its own enforcement and compliance staff. These guidelines describe the general standards for compliance action and set forth the procedures to be followed in conducting investigational and enforcement activities. Essentially all of these written materials are available through FDA's many web-sites. FDA has also prepared “plain language” versions of some of the more technical documents to assist small businesses and others in understanding FDA's expectations.

FDA has created a number of small business and industry assistance “homepages” on its web-sites that bring together an array of useful regulatory and compliance information.

For example, the Center for Devices and Radiological Health has created a “Device Advice” Web page, a self-service interactive site for obtaining information about medical devices. The human pharmaceutical program has created a comparable Web page, “Small Business Assistance”.

FDA's Small Business Representatives (SBRs) are a significant resource for the small business community. Each of FDA's five regional offices is assigned an SBR to provide small business educational outreach and training.

FDA regional offices represent another significant informational resource for the small business community. The regional offices answer thousands of questions, conduct scores of training programs, and organize many “grassroots” meetings to educate the regulated industry, especially small businesses, about emerging regulatory topics of interest.

In addition, FDA's public affairs specialists (PASs), who are assigned to many of the agency's field offices, are able to respond to questions about FDA's programs, policies, and procedures.

Finally, FDA has appointed ombudsmen in the Office of the Commissioner, the Center for Drug Evaluation and Research, the Center for Biologics Evaluation and Research, the Center for Veterinary Medicine, and the Center for Devices and Radiological Health. These officials not only provide compliance assistance, but also help regulated companies explore available options in resolving disputes with the agency.

Guidelines

Technical guides. FDA has issued hundreds of guides to assist manufacturers in meeting premarket approval and other regulatory requirements. Among these guidelines a number of guidelines expressly directed to the concerns and needs of small businesses.

Inspectional guides. FDA has made publicly available the agency's manuals and written procedures governing the conduct of inspectional and investigational activities.

Policy Guides

FDA has issued many guidelines to help regulated industry understand the laws, policies, and regulations that FDA administers. Many of these documents are issued in “plain language” versions to assist small businesses and others in understanding FDA's expectations.

All of the above-cited guidance materials may be accessed through the following Web sites:

• Center for Drug Evaluation and Research Guidance Documents: http://www.fda.gov/cder/guidance/index.htm

• Center for Devices and Radiological Health Guidance Documents for Industry: http://www.fda.gov/cdrh.guidance.htm

• Center for Food Safety and Applied Nutrition Food and Cosmetic Guidance Documents: http://www.cfsan.fda.gov/~dms/guidance.html

• Office of Regulatory Affairs Inspection References: http://www.fda.gov/ora/inspect_ref/default.htm

Web Assistance

The following small business and industry-assistance homepages also bring together an array of useful regulatory and compliance information:

• Center for Drug Evaluation and Research (CDER) Small Business Assistance: http://www.fda.gov/cder/about/ smallbiz/default.htm—This site provides a listing of various programs, laws, regulations, and organizations that pertain to the drug development and approval process. This site is specifically geared to small businesses; however, general information relating to both small and large businesses is also available here (i.e., guidance documents, CDER calendar, etc.).

• Information on Devices: http://www.fda.gov/cdrh/devadvice/—This is an interactive, self-service site. It contains information on “How to Market Your Device” as well as an overview of the regulations, guidance documents, consumer information, and more.

• Veterinary Products: http://www.fda.gov/cvm/faqs/faqs.html—This site answers “Frequently Asked Questions” about veterinary products. It includes links to sites that provide information and requirements for topics such as “New Animal Drug Approval” and “Marketing a Pet Food Product,” as well as others.

• Center for Biologic Evaluation and Research (CBER): http://www.fda.gov/CBER/manufacturer.htm—This Web site from the Center for Biologic Evaluation and Research explains the manufacturers assistance program, which provides assistance and training to companies, both large and small, regarding CBER policies and procedures. This site also contains links to other sites that may be of values to the small business owner.

• Office of Regulatory Affairs Information on Small Business: http://www.fda.gov/ora/fed_state/small_business/default.htm.

• Office of Regulatory Affairs Small Business Guide to FDA: http://www.fda.gov/ora/fed_state/Small_Business/sb_guide/default.htm.—This site is from the FDA's Office of Regulatory Affairs. It offers links to a number of useful sites such as “What to do when marketing a new product,” “recalling a product,” “undergoing an FDA inspection,” etc. It also provides an introduction to the Federal Register, information on obtaining FDA documents, frequently called numbers, and much more information.

• Center for Food Safety and Applied Nutrition Guide to Starting a Food Business: http://www.cfsan.fda.gov/~comm/foodbiz.html—Advice on “Starting A Food Business” which may be of interest for the (potential) small business owner. This site provides links to federal and state regulatory agencies, import & export information, as well as several other helpful sites.

Small Business and Industry Assistance Offices. Each major FDA component has its own industry assistance office. Staff in these offices provide program-specific information and compliance assistance, through the contact points indicated below:

CDER Small Business Assistance Drug Information Branch, 301-827-4573, ordib@cder.fda.gov.

CBER Division of Manufacturers Assistance and Training, 301-827-2000, or matt@cber.fda.gov.

CDRH Division of Small Manufacturers, International and Consumer Assistance, dsma@cdrh.fda.gov, Telephone: 1-800-638-2041.

CVM Communications Staff, jkla@cvm.fda.gov, Telephone: 301-827-3806.

CFSAN Industry Activities Staff, giguina@cfsan.fda.gov, Telephone: 301-436-1730.

The Small Business Representatives identified below in each of FDA's five regional offices provide small businesses with personalized educational outreach and compliance assistance.

Northeast Region (CT, MA, ME, NH, NY, RI, VT)

Marilyn Corretto, 158-15 Liberty Avenue, Jamaica, NY 11433-1034. Telephone: 718-662-5618. Fax: 718-662-5434. E-mail: oranersbr@ora.fda.gov.

Central Region (DC, DE, IL, IN, KY, MD, MI, MN, ND, NJ, OH, PA, SD, VA, WI, WV)

Marie T. Falcone, U.S. Customhouse, 2nd and Chestnut Sts., Room 900, Philadelphia, PA 19106. Telephone: (215) 597-2120 ext. 4003. Fax: (215) 597-5798. E-mail: mfalcone@ora.fda.gov.

Southeast Region (AL, FL, GA, LA, MS, NC, PR, SC, TN, VI)

Food and Drug Administration, 60 Eighth St., NE., Atlanta, GA 30309. Telephone: (404) 253-1217. Fax: (404) 253-1207. E-mail: orasesbr@ora.fda.gov.

Southwest Region (AR, CO, IA, KS, MO, NE, NM, OK, TX, UT, WY)

David Arvelo, 40 N. Central Expy., Suite 900, Dallas, TX 75204. Telephone: (214) 253-4952.

Assistant: Sue Thomason, Telephone: (214) 253-4951. Fax: (214) 253-4970. E-mail: oraswrsbr@ora.fda.gov.

Pacific Region (AK, AZ, CA, HI, ID, MT, NV, OR, WA)

Marcia Madrigal, Oakland Federal Building, 1301 Clay Street, Suite 1180-N, Oakland, CA 94612-5217. Telephone: (510) 637-3980. Fax: (510) 637-3977. E-mail: mmadriga@ora.fda.gov.

Ombudsman

FDA's Ombudsman Offices provide compliance assistance and assistance in informal dispute resolution. There are also ombudsman offices in most of the program offices.

Office of the Commissioner

Office of the Ombudsman, Food and Drug Administration, 5600 Fishers Lane, Room 4B-44, HF-7, Rockville, MD 20857. Telephone: 301-827-3390. Fax: 301-480-8039. E-mail: ombuds@oc.fda.gov.

Center for Biologics Evaluation and Research

Sherry Lard Whiteford, CBER Ombudsman (HFM-4), Center for Biologics Evaluation and Research, 1401 Rockville Pike, Suite 200N, Rockville, MD 20852-1448. E-mail: lard@cber.fda.gov. Telephone: 301-827-0379.

Center for Drug Evaluation and Research

CDER Ombudsman (HFD-1), 5600 Fishers Lane, Room 9-74, Rockvillle, MD 20857. Telephone: 301-594-5443 or 301-827-4312. E-mail: ombudsman@cder.fda.gov.

Center for Devices and Radiological Health

Les Weinstein, CDRH Ombudsman, Office of the Center Director, Center for Devices and Radiological Health, U.S. Food and Drug Administration, 9200 Corporate Blvd. (HFZ-5), Rockville, MD 20850. Telephone: 301-827-7991. Fax: 301-827-2565. E-mail: ombudsman@cdrh.fda.gov.

Center for Veterinary Medicine

Marcia K. Larkins, D.V.M., FDA Center for Veterinary Medicine, Ombudsman, 7519 Standish Place, HFV-7, Rockville, MD 20855. Telephone: (301) 827-4535. Fax: (301) 827-3957. E-Mail: mlarkins@cvm.fda.gov.

Center for Medicare and Medicaid Services (CMS)

CMS's Small Business Office

CMS has a full time Small and Disadvantaged Business Utilization Specialist (SDBUS) located in its Acquisition and Grants Group. The SADBUS is the Agency's focal point for ensuring that all reasonable action is taken to increase awards to small, small disadvantaged, HUBZones, and women-owned businesses. Company profiles and capability statements for all types of services are maintained by this office. Inquiries should be directed to Mrs. Joanne Day, on 410-786-5166, or e-mail may be sent to: jday@cms.hhs.gov.

Grant Opportunities

While CMS's Program Offices are concerned with the scientific, technical and programmatic topics, the Acquisition and Grants Group/Research Contracts and Grants Division is primarily charged with the business management and policy aspects of CMS's discretionary grant and cooperative agreement activities.

Currently, CMS conducts a myriad of R&D programs including (but not limited to) the following: Fraud and Abuse Initiatives, State Health Insurance, Small Business Innovation Research, Dissertation Fellowship Grants, Nursing Home Transition Initiatives, Historically Black Colleges and Universities and Hispanic Health Services Research. For additional information, please contact Judy Norris on (410) 786-5130 or e-mail to: jnorris1@cms.hhs.gov.

In addition, CMS provides on its all-purpose Web site, www.CMS.HHS.gov, extensive amounts of information about the agency's programs, organized in terms of the kind of health-service provider affected, e.g. hospitals, nursing homes, home health agencies, or durable medical equipment suppliers. This information is not currently differentiated in terms of the size of these providers' business entities, but CMS is planning to take steps in the near future to earmark the information in terms of its applicability to small businesses.

Health Resources and Services Administration

The Health Resources and Services Administration (HRSA) exists primarily to expand access to health care for medically underserved individuals and families across the nation through community-based networks of primary and preventive health care services. HRSA has become known as “The ‘Access’ Agency” for its services to Americans who lack health insurance; 62 million Americans in rural communities; 78 million racial and ethnic minorities; over 800,000 Americans with HIV/AIDS; and about 80,000 U.S. residents awaiting organ transplants.

HRSA Contracting Office and Small Business Representative

The HRSA contracting office, the Contracts Operations Branch, is currently part of the Division of Grants and Procurement Management. The current Small Business Representative, Ms. Debora Pitts, is available to assist small businesses in navigating the field of HRSA acquisitions. Ms. Pitts may be contacted at 301-443-3789.

Key Contact Persons in HRSA Contracts

HRSA “HCA” (Head of Contracting Activities) is Dr. Albert F. Marra, who may be reached at 301-443-1433. The HRSA Chief of the Contracts Operations Branch is Mr. Steve Zangwill, who may be contacted at 301-443-5097. Mr. Zangwill is assisted by Mr. Frank Murphy, who leads the negotiated contract team, at 301-443-5165, and Ms. Bonnie Garcia, who heads the simplified acquisitions team at 301-443-5116. The main office number is 301-443-1433.

All contracting opportunities at HRSA are announced publicly via the world wide web using the government's new FedBizOpps program at the following Web site: www.fedbizopps.gov.

Contractors and vendors are urged to visit that site, as well as the larger HRSA Web site at www.hrsa.gov to keep abreast of contracting needs as well as programmatic changes and developments. Another vehicle open to interested potential contractors is to study the grants funding opportunities available to various agencies and organizations. These grants opportunities, which are also announced via the web, the Federal Register, FedBizOpps, and through “The HRSA Preview,” give further indications of potential acquisitions needs. The HRSA Preview may be obtained through the HRSA Web site or by calling 1-877-HRSA-123. Contractors may also find fertile opportunities for sub-contracting with HRSA grantees.

National Institutes of Health (NIH)

Small Business Office

The NIH Small Business Office (SBO) serves as an advocate for small business through various program activities and outreach efforts. These efforts are intended to maximize prime and subcontract acquisition opportunities at the NIH for small businesses owned by the disadvantaged, women, veterans, service-disabled veterans, and Historically Underutilized Business Zone (HUBZone) concerns.

The Small Business Program is located in the NIH's Office of Acquisition Management and Policy, whose URL is: http://oa.od.nih.gov/oamp/index.html.

Specific points of contact include:

NIH Small Business Office, Diana Mukitarian, Chief, 6100 Executive Boulevard, Room 6D05, Bethesda, MD 20892-7540. Phone: (301) 496-9639. Fax: (301) 480-2506. E-mail: sbmail@od.nih.gov.

The National Cancer Institute, Joseph Bowe, Small Business Specialist, 6120 Executive Boulevard, Room 608, Bethesda, MD 20892-7222. Phone: (301) 435-3810. Fax: (301) 480-0309. E-mail: Bowej@rcb.nci.nih.gov.

The National Institute of Environmental Health Sciences, Mary B. Workman, Small Business Specialist, Acquisitions Management Branch, P.O. Box 12874, MD NH-02, Research Triangle Park, NC 27709. Phone: (919) 541-0377. Fax: (919) 541-5117. E-mail: workman@niehs.nih.gov.

Among other things, the Small Business Program at the NIH is responsible for:

• Developing and maintaining acquisition review procedures and guidelines for requests for contracts, subcontracting plans and operations as contract activities. Such reviews result in recommendations to contracting officers regarding the method of acquisition to be pursued and the acceptability of proposed subcontracting plans and prime contractors' small business programs;

• Conducting surveillance of contract, simplified acquisition and satellite small business program activity, and conducting studies of specific problem areas to ensure effective small business program performance and compliance with applicable laws and regulations;

• Ensuring the development and presentation of management data to provide continuing visibility of program activity and to evaluate program accomplishments against agency socio-economic goals;

• Representing the NIH at Federal, state, local government and congressional small business conferences and fairs. Serving as a guest and expert speaker at various Federal, state, local government and Congressional small business conferences and fairs;

• Serving as a liaison between the NIH program and contract staff and the contractor community;

• Delivering industry assistance by maintaining a program designed to locate capable small, disadvantaged, woman, veteran, service-disabled and HUBZone—owned small business concerns for current and future acquisitions;

• Representing the NIH to industry by interfacing with CEOs and other principals of private companies, to include small and large firms, as well as nonprofits and universities;

• Responding to inquiries and requests for advise from small, disadvantaged, woman, veteran, service-disabled and HUBZone—owned businesses; and assisting small business in their marketing and business development efforts and activities.

Department of Health and Human Services Single Point of Contact: Robert Polson, HHS Reports Clearance Officer, ASBTF/OIRM/OITP, Room 531H-71, Humphrey Building, Washington DC 20201. Telephone: (202) 260-0040. E-mail: SB.PRA@HHS.gov.

Homeland Security

The Department of Homeland Security's (DHS) Office of Small Business and Disadvantaged Business Utilization (OSDBU) assists, counsels, and advises small businesses of all types (small businesses, small disadvantaged business, women-owned small businesses, veteran owned small businesses, service disabled veteran owned small businesses, and small businesses located in historically underutilized business zones) on procedures for contracting with DHS.

Office of Small and Disadvantaged Business Utilization (OSDBU)

The Department of Homeland Security's (DHS) Office of Small Business and Disadvantaged Business Utilization (OSDBU) assists, counsels, and advises small businesses of all types (small businesses, small disadvantaged business, women-owned small businesses, veteran owned small businesses, service disabled veteran owned small businesses, and small businesses located in historically underutilized business zones) on procedures for contracting with DHS. The point of contact for this small business program is Kevin Boshears; he may be reached at (202) 772-9792 and kevin.boshears@dhs.gov.

Office of the Private Sector

The Office of the Private Sector has an e-mail address where small business inquiries could be made, namely private.sector@dhs.gov. The Office will, pursuant to the Homeland Security Act, have the capability to advise the Secretary regarding the impact on the private sector, including small business, of proposed regulations concerning homeland security. For now an individual and phone number that can be used as an entry point to the Office would be Ms. Elizabeth Callaway at (202) 282-8484 and elizabeth.callaway@dhs.gov.

Department of Homeland Security Single Point of Contact: Elizabeth Callaway, U.S. Department of Homeland Security, Attn: Private Sector Office, Washington, DC 20528. Telephone: (202) 282-8484. E-mail: Elizabeth.callaway@dhs.gov.

Bureau of Citizenship and Immigration Services (INS)

The paperwork requirement imposed by the Bureau of Citizenship and Immigration Services is the Form I-9. Completion of this one-page form by employers helps to insure a legal workforce within the United States and does not present a significant burden for businesses. The Bureau has instituted electronic filing of some applications and provides application status on line. These improvements have been a boost to many businesses, providing a speedy mechanism for filling critical positions with foreign experts or semi-skilled workers with temporary and permanent foreign workers. Many employers make use of the Bureau's petitions and applications for approval to hire alien temporary workers.

Live voice assistance, Employer Hotline (800) 357-2099 is available for employers and Live voice assistance for general questions (800) 357-5283. Information for e-filing can be found at www.bcis.gov. Employer Assistance Resources can be found at www.bcis.gov under the title “Information for Employers”, Office of Business Liaison. Requests for speakers and questions can be faxed to (202) 305-2523.

DHS Point of Contact for Small Business Compliance Assistance: Felicia A. Colvin, Supervisory Information Specialist, Office of Business Liaison, Bureau of Citizenship and Immigration Services, Telephone: (202) 305-2461.

Bureau of Customs and Border Protection (CBP)

The newly formed Bureau of Customs and Border Protection (CBP) have been working under the trade concept of “informed compliance” since the passage of the Customs Modernization Act (1993). This law mandated CBP to develop a proactive strategy to advise importers of their responsibilities under the law. To fulfill this mandate, CBP has implemented several measures for providing guidance on laws governing international trade for all importers and exporters, including small businesses. Small businesses can avail themselves of this information using the following means: CBP Web Site (downloadable); local and national trade meetings/seminars; weekly publications of the Customs Bulletin; binding rulings program; other informed compliance brochures and pamphlets; and direct contact with CBP personnel.

There are over 300 ports of entry where we enforce numerous laws for CBP and other government agencies while serving as America's frontline for border security. As the agency's primary responsibility, CBP has twin goals of improving security and facilitating legitimate trade and travel, which are not mutually exclusive. In its role to facilitate trade, CBP has always provided compliance assistance to the trade community about the laws and regulations that apply to importing and exporting. Customs officers at the ports of entry, the Strategic Trade Centers, Customs Management Centers and at Headquarters daily receive and respond to requests for information from the public.

• CBP Web site: http://www.cbp.gov/xp/cgov/toolbox/ports/

The CBP Web site lists all ports of entry with their addresses and telephone numbers. CBP has incorporated a Customer Service Center that responds to inquiries via a toll free number (1-877-Customs). The Office of Trade Relations (OTR) is designated as the point of contact within CBP for small businesses and may be reached at (202) 927-1440 or via e-mail at traderelations@customs.treas.gov. This office was revamped in 2002 to ensure effective, extensive communication between CBP and all facets of the trade community. Any small entity seeking general information about importing procedures or feeling it has received unfair treatment may contact OTR for assistance.

Customs and Border Protection, Office of Trade Relations, 1300 Pennsylvania Avenue NW., Room 4.2A, Washington, DC 20229. Telephone: 202-927-1440. Fax: 202-927-1696. E-mail: traderelations@customs.treas.gov.

Coast Guard

Marine Safety, Security and Environmental Protection G-M.

The point of contact for SBREFA is: Jaideep Sirkar, U.S. Coast Guard (G-MSR), 2100 Second Street, SW., Rm. 1400. Washington, DC 20593-0001. Telephone: (202) 267-6819.

The SBREFA point of contact can be contacted via two different email addresses: msregs@comdt.uscg.mil or jsirkar@comdt.uscg.mil both of these email addresses are available on the Coast Guard web page.

The Coast Guard web page is designed to provide important regulatory information to small entities; Encourage small entities to participate in the regulatory development process; and help small entities comply with marine safety regulations implemented by the Coast Guard. The following are links to our webpage:

• Small Entity Regulatory Assistance: http://www.uscg.mil/hq/g-m/regs/sbrefa.html

• Marine Safety, Security and Environmental Protection Program's Regulatory Home Page: http://www.uscg.mil/hq/g-m/regs/reghome.html

Point of contact: Carl Perry, Telephone: (202) 267-0979. E-mail: cperry@comdt.uscg.mil.

The Boating Safety webpage is http://www.uscgboating.org/. It is designed to give assistance and information to recreational boat owners and manufacturers on boating safety regulations.

Collection of Information

The Coast Guard point of contact: Barbara Davis, Telephone: (202) 267-2326. E-mail: bdavis@comdt.uscg.mil.

Housing and Urban Development

The Office of Small and Disadvantaged Business Utilization (OSDBU) has many tools available for small businesses. Through the establishment of the Information Technology (IT) training HUD has provided a learning tool for small businesses to understand all aspects of HUD's IT opportunities. Introducing this training program has enabled HUD to form partnerships with small businesses and identify qualified companies to seek IT opportunities within the agency.

HUD sponsors Marketing and Outreach business fairs and focuses both on direct HUD contracting opportunities and contracting opportunities created by HUD assisted projects including Community Development Block Grant recipients and Public Housing authorities. HUD outreach sessions include HUD program offices and prime contractors who offer sub-contracting opportunities to small, small disadvantaged and women-owned businesses. HUD has attended approximately 50 outreach conferences including procurement fairs, trade shows, marketplace presentations throughout the country with a strong emphasis on the utilization of small businesses.

HUD's contracting home page is linked to the OSDBU homepage in HUD's Web site. The contracting home page contains notices of HUD procurement opportunities and allows interested parties to download a file containing solicitations. A special OSDBU page contains Small Business tips, the Forecast of Contracting Opportunities, a Small Business Resource Guide and notification of outreach activities.

The chart below identifies the Department's compliance assistance resources for submission to OMB for the Internet.

HUD also has the HUD Procurement System (HPS), an integrated commercial and customized software program that automates procurement operations department-wide. This system includes a rapid query of contracting information that enables all companies to submit bids or proposals for upcoming contracting opportunities and the identification of HUBZones for participation in contracting and sub-contracting opportunities. Additionally, it provides HUD with a system to monitor and evaluate its actual achievements in regard to participation of small businesses in HUD activities.

HUD sponsors Marketing and Outreach business fairs and focuses both on direct HUD contracting opportunities and indirect contracting opportunities created by HUD assisted projects including, Community Development Block Grant recipients and public housing authorities. During these events, program offices and prime contractors who offer sub-contracting opportunities to small, small disadvantaged and women owned businesses are urged to attend. Last year, HUD attended approximately 50 outreach conferences including procurement fairs, trade shows and marketplace presentations throughout the country. The OSDBU Business Utilization Development Specials (BUDS), have regular one-on-one meetings with small businesses. The Director holds “Thursday Open House” sessions for all small, small disadvantaged and Women Owned Small Businesses (WOSBs). These meetings give small businesses the opportunity to meet personally with the Director and the specialized BUDS advocate within the OSDBU. The aforementioned efforts are in addition to the daily counseling and one-on-one meetings held with these businesses at the HUD headquarters and field offices.

The OSDBU has increased its staff to include a Contract Specialist, an Information Technology Specialist, a Small Business Policy Specialist and a Research Analyst. HUD has implemented innovative projects and tools utilizing the latest technologies that have and will continue to have a positive effect on the participation of WOSBs in departmental contracting activities. There are IT outreach sessions held regularly with IT small businesses to inform them of new procurement opportunities at HUD.

New Methodologies that challenge conventional procedures include the establishment of subcontracting policies that have resulted in an increase in contract dollars to small businesses. The HUD Procurement System (HPS) effectively tracks all contracting and subcontracting dollars awarded to small businesses. HUD has established a subcontracting goal of up to 40% of the total value of each contract and subsequent extensions, modifications and options. Contractors that are unable to meet the established goal must provide the rational for the proposed level of subcontracting. In accordance with the Federal Acquisition Regulation (FAR) at Part 19.702 and HUD's own federal acquisition regulation (HUDAR) at 2452.219-70, solicitations exceeding $500,000 that include HUDAR provision 2452.219-70, shall provide the maximum practicable subcontracting opportunities to small, small disadvantaged and women-owned businesses. Prior to award, each contract shall be evaluated on specific subcontracting goals and commitments to small businesses. These pioneering subcontracting policies also include subcontracting plans for General Services Administration schedule buys. There is a concentrated effort to conduct outreach with small businesses across the nation.

HUD OSDBU continuously performs at a level of professional excellence to serve our customers. HUD consistently formulates and implements written policies supporting small businesses and includes references to small businesses in standard operating procedures. HUD has designated a senior executive as the Director of the OSBDU who is responsible for implementing small business policy initiatives. Furthermore, HUD maintains an effective system to provide acknowledgement of procurement personnel that utilize 8(a) small businesses. HUD places a high priority on direct communications and outreach efforts; we utilize newsletters, facilitate trade show and marketplace presentations and conduct business assistance and training seminars. HUD is one of the most innovative governmental agencies and is constantly retrofitting its employment with the latest technologies to enhance service to small businesses. HUD constantly employs proactive strategies to increase opportunities for these businesses to serve as prime contractors and subcontractors. HUD has achieved phenomenal success in requiring prime contractors to establish measurable programs to increase subcontracting opportunities.

Publications

• Small Business resource Guide: www.hud.gov:80/offices/osdbu/resource/guide.cfm.

• Small Business Tips: www.hud.gov:80/offices/osdbu/tips.cfm.

• Forecast of Contracting Opportunities: www.hud.gov/office/cpo/4cast.cfm.

Seminars and Classes

• Outreach Calendar/Small Business Training: www.hud.gov/groups/smallbusiness.cfm.

WEB Based Compliance

• Brent Pick is HUD's webmaster and updates all contract compliance issues on the web. (303) 672-5281 ext. 1821 Brent_Pick@hud.gov.

Telephone Service

• (202) 708-1428, Office of Small and Disadvantaged Business Utilization HUD Headquarters, Room 3130.

Future Activities

• CD-Roms/Video.

• Online/E-mail Service.

On-Site Evaluation/Assistance

• Office of Small and Disadvantaged Business Utilization, A. Jo Baylor, Director: HUD—Headquarters 451 7th Street, SW., Room 3130, Washington, DC 20410; E-mail: a.jo_baylor@hud.gov.

Interior

Fish and Wildlife Service

• Compliance assistance Contact: Susan_Wilkinson@fws.gov.

• General compliance guidance: http://pdm.fws.gov/sba/sbindex.html.

• Compliance guidance for wildlife import and export license holders: http://www.le.fws.gov/PublicBulletin.htm or http://www.le.fws.gov/inspectors.htm.

• Non-retaliation policy: http://policy.fws.gov/do142.html.

• Outreach presentations for the import/export community: http://www.le.fws.gov/inspectors.html or Telephone: 703-358-1949.

• Courses on Conservation Grant Writing, Conservation Partnerships, Developing and Working with Friends Groups, and other topics: http://training.fws.gov or Telephone: 304-876-1600.

• Assistance for importers and exporters, taxidermists, guides, and outfitters: http://www.le.fws.gov/inspectors.htm or Telephone: 703-358-1949.

• FWS Publications online: http://library.fws.gov/pubs3.html.

Fish and Wildlife Service contact: Sara Prigan, Policy & Directives Management Division, U.S. Fish and Wildlife Service, Mail Stop 222, Arlington Square, 4401 N. Fairfax Drive, Arlington, VA 22203. Telephone: 703-358-2508. Fax: 703-358-2269. E-mail: Sara_Prigan@fws.gov.

Minerals Management Service

• Information about regulations, Notices to Lessees, and Dear payor letters: www.mms.gov or copies available at local MMS offices.

• Training on how to report royalty revenue and related information: Available at various locations around the country.

• Workshops to explain more complex regulations: Available at various locations around the country.

Bureau of Land Management

• Oil and Gas Surface Operating Standards for Oil and Gas Development known as “The Gold Book”: Available at BLM State and Field Offices.

Office of Surface Mining

• Information about regulations, directives, policy, agency reports, flyers, brochures, small operators assistance, etc.: www.osm.gov.

• Printable telephone directory, electronic telephone directory, e-mail directory; office locations: www.osm.gov and by e-mail from getinfo@osmre.gov.

• Telephone reference and referral services; answers to general reference questions; information on availability of OSM documents: www.osm.gov or by calling 303-844-1436 or by fax at 303-844-1545.

• Downloadable software tools that can be used for implementing the Surface Mining Law: www.osm.gov.

• The Applicant Violator System contains the history of permits and companies in the coal mining business, generally since 1977 Downloadable software: www.avs.osmre.gov or call 1-800-643-9748.

Bureau of Reclamation

• Statute, regulations, Reclamation Reform Act (RRA) Fact Sheets, RRA forms & instructions, and Status of Irrigation Districts List: www.usbr.gov/rra.

• Explanations of the most common RRA questions and issues in plain English: www.usbr.gov/rra and at the Reclamation District offices in all irrigation districts.

Department of the Interior Single Point of Contact: John Strylowski, U.S. Department of the Interior, MS 7229 MIB, Washington, DC 20240. Telephone: 202-208-3071. Fax: 202-219-2100. E-Mail: john_strylowski@ios.doi.gov.

Justice

Office of Small and Disadvantaged Business Utilization (OSDBU)

The Office of Small and Disadvantaged Business Utilization (OSDBU) strive to improve and increase the Department's performance in utilizing small, small disadvantage, small woman-owned and veteran-owned businesses as contractors and subcontractors. Our various bureaus spend approximately two billion dollars a year in the private sector. Currently, more than 42 percent of those dollars go to small businesses, with 10 to 15 percent going to minority-owned firms and 3 to 5 percent going to woman-owned companies.

The OSDBU Director and the Deputy Attorney General are committed to encouraging and assisting well-qualified and skillful small, minority, and woman-owned businesses seeking contracts with the Department of Justice. The acquisition function in the Justice Department has been assigned to each of our bureaus' contracting staffs, most of which are located in the metropolitan Washington, DC area. We have prepared several avenues to assist small and disadvantaged businesses in getting better acquainted with the requirements and procurement practices of the bureaus.

The Forecast of Contract Opportunities provides projected contract opportunities that may become available from the various DOJ bureaus during the specified fiscal year. The forecast information is divided by bureaus and lists opportunities that anticipated awards greater than or equal to $25,000.

The forecast information also includes the product/service with the North American Industry Classification System codes; the anticipated procurement release date by fiscal year quarter; applicable or proposed preference program set-aside; the government estimate; and the incumbent contractor if any.

Carefully review this listing and refer all questions about a proposed action to the listed contact. Questions about the forecast should be directed to the DOJ OSDBU staff on (202) 616-0521 or 1-800-345-3712.

Information on DOJ's initiatives and activities is available on the DOJ Small Business Web site: http://www.usdoj.gov/jmd/osdbu. This site links to the Small Business homepage, which provides extensive small business assistance information including registration for the monthly vendors outreach sessions which provides the opportunity for one-on-one meetings with small business specialist and contracting officers.

Seminars/Conferences/Outreach Sessions: www.usdoj.osdbu.gov.

OSDBU Contact: Joseph K. Bryan, Director, OSDBU, 1331 Penn Ave., NW., National Place Bld., Suite 1010, Washington, DC 20530. Telephone: 202-616-0521. Fax: 202-616-1717. E-Mail: Joseph.k.bryan@usdoj.gov.

Bureau of Alcohol, Tobacco, Firearms and Explosives (ATF)

Publications of benefit or interest to ATF industry members and the general public (i.e., firearms and explosives regulations, newsletters, rulings, press releases, statistics and State & local training courses, Federal law and regulations, State Laws and Published Ordinances, and Federal Register notices.)

• Theft/losses of explosives materials: 1-888-ATF-2662.

• Toll free for reports of gun related crimes and after hours theft/losses: 1-800-ATF-GUNS.

• Toll free for theft/losses of firearms: 1-800-800-3855.

• ATF Firearms and Explosives Compliance Web site: www.atf.gov.

The ATF provides various publications to our industry members as well as the general public. Some of the publications available either on ATF Web site or in hard copy, include manuals which provide ATF's regulatory requirements in a plain language format; informational brochures to help raise awareness of possible criminal activity (i.e., Reporting theft of Explosives and Firearms, Arson incidents); and industry newsletters for all businesses regulated by ATF. Publications, brochures and forms are produced in quantities of 115,000 each for firearms and 12,000 for explosives, for distribution to the licensees, permittees, and to trade and research organizations and the press.

ATF hosts/participates in national, international, as well as regional/local conferences and meetings. In addition, ATF personnel are often invited by associations to attend their national conferences to give presentations on topics of interest to association members, and/or set up an exhibit booth. The ATF exhibit booth provides yet another venue through which industry members that attend these meetings, may ask questions or concerns regarding ATF policy or regulations.

ATF personnel have also been asked by industry associations as well as regulatory associations/agencies to participate on various panels. Recent topics on which the ATF has provided our expertise include but are not limited to, Safe Explosives Act, Shot Show University, Annual Importers Conference.

There are a number of application forms and reports required by ATF, some of which are now available on ATF's Web site www.aft.gov.

ATF Contact: Mary Jo Hughes, Chief, FEA Services Division, Office of Firearms, Explosives and Arson, Bureau of Alcohol, Tobacco, Firearms and Explosives 650 Massachusetts Avenue, NW., Washington, DC 20226. Telephone: 202-927-8045. Fax: 202-927-7488.

Civil Rights Division (CRT)

CRT—Disability Rights Section (DRS)

• Home Page: www.usdoj.gov/crt/ada/adahom1.htm.

• Business Page: http://www.usdoj.gov/crt/ada/business.htm.

The home page provides information about the toll-free ADA Information Line, the Department's ADA enforcement activities, the ADA technical assistance program, certification of State and local building codes, proposed changes in ADA regulations and requirements, and the ADA mediation program. The home page also provides direct access to ADA regulations and technical assistance materials, Freedom of Information Act materials, links to the Department's press releases, and links to the other Federal agencies' Internet home pages that contain ADA information. The most recent addition to the ADA Home Page is the ADA Business Connection—a site that has been established to assist business entities to acquire the information necessary to enable them to comply with the ADA.

ADA Guide for Small Business: http://www.usdoj.gov/crt/ada/smbudgd.pdf.

ADA Information Line. DRS operates a toll-free ADA Information Line to provide information to the public about the requirements of the ADA and to distribute technical assistance publications to the public. Automated service is available 24 hours a day, seven days a week. In addition, the Information Line is staffed during business hours by disability rights specialists who respond to questions about the ADA. The ADA Information Line numbers are (800) 514-0301 (voice); (800) 514-0383 (TTY).

ADA Fax on Demand. The ADA Information Line Fax Delivery Service allows the public to obtain free ADA information by fax 24 hours a day, seven days a week. By calling the ADA Information Line, callers can select from among 32 different ADA technical assistance publications and receive the information, usually within minutes, directly on their fax machines or computer fax/modems.

ADA Information Line: 800-514-0301 (voice); 800-514-0383 (TTY)

ADA publications. DRS produces a range of technical assistance documents, including an ADA Guide for Small Businesses that has been published jointly with the Small Business Administration. A video is currently under production featuring Assistant Attorney General Ralph Boyd and DRS staff that will dispel common misunderstandings that small businesses have about the ADA.

ADA training. DRS provides ADA training at meetings nationwide; and conducts outreach to broad and targeted audiences that have included mayors, local Chambers of Commerce, and millions of businesses.

Requests for speakers and training should be placed through the ADA Information Line: 800-514-0301 (voice); 800-514-0383 (TTY)

ADA Mediation Program. The Department's ADA Mediation Program facilitates compliance by entities, including small businesses, using a voluntary alternative dispute resolution approach. Carried out through a partnership between the Federal government and the private sector, more than 450 professional mediators are available nationwide to mediate ADA cases.

David K. Flynn*, Chief, Appellate Section, P.O. Box 66078, Washington, DC 20035-6078. Telephone: 202-514-2195. Fax: 202-524-8490.

________

*(Please note that Mr. Flynn is not assigned either to the Disability Rights Section (DRS) or to the Office of Special Counsel (OSC). General small business inquiries for information or for assistance concerning compliance with matters within the areas of responsibility of DRS or OSC should be directed to the addresses and phone numbers in the respective sections.)

CRT—Office of Special Counsel for Unfair Immigration Related Employment Practices (OSC)

OSC's Web site has helpful information specifically designed for businesses. This site describes the legal obligations of employers to comply with the anti-discrimination provision of the Immigration and Nationality Act (INA) and provides information to assist compliance. www.usdoj.gov/crt/osc.

OSC has a national toll-free telephone line solely for the use of employers who wish to consult with OSC staff members about their compliance concerns. The telephone line is staffed by OSC attorneys and Equal Opportunity Specialists who promptly address employers' questions, providing them with immediate guidance. OSC staff often advise employers on how to avoid discrimination in the workplace, minimizing any future liability. Voice: 1-800-255-8155; TDD: 1-800-362-2735.

Based on information received from individuals calling this line, and OSC's prompt investigation of these cases, OSC often is able to bring early, efficient, cost-effective resolutions to employment disputes that might otherwise result in the filing of charges, the accumulation of potential back pay awards, or litigation expenses. These early interventions minimize the impact of statutory enforcement on small businesses. Voice: 1-800-255-7688 or (202) 616-5525; TDD: 1-800-237-2515.

OSC Employer Hotline. OSC also provides employers, where necessary, with training materials for their staff, including booklets, posters and educational videotapes, on how to ensure that they do not engage in discriminatory behavior. The employer hotline number is distributed with all of OSC's outreach materials for employers.

Voice: 1-800-255-8155; TDD: 1-800-362-2735; E-mail Address: osccrt@usdoj.gov.

Download Brochures and Booklets: http://www.usdoj.gov/crt/osc/htm/outreach.htm.

OSC Job Applicant or Employee Hotline. OSC takes part in numerous employer training sessions throughout the country, providing employers guidance on how they can comply with the antidiscrimination provisions of the immigration laws.

OSC Training Materials. OSC also provides employers, where necessary, with training materials for their staff, including booklets, posters and educational videotapes, on how to ensure that they do not engage in discriminatory behavior. The employer hotline number is distributed with all of OSC's outreach materials for employers.

Voice: 1-800-255-8155; TDD: 1-800-362-2735; E-mail Address: osccrt@usdoj.gov.

Download Brochures and Booklets: http://www.usdoj.gov/crt/osc/htm/outreach.htm.

OSC Compliance Assistance Education. OSC takes part in numerous employer training sessions throughout the country, providing employers guidance on how they can comply with the antidiscrimination provisions of the immigration laws.

Voice: 1-800-255-8155; TDD: 1-800-362-2735; E-mail Address: osccrt@usdoj.gov.

OSC Media outreach. OSC staff participate in outreach engagements with the media, such as radio call-in shows, that afford employers an opportunity to bring their concerns to OSC's attention. Voice: 1-800-255-8155; TDD: 1-800-362-2735; E-mail Address: osccrt@usdoj.gov.

OSC Grants. OSC provides grants to employer associations (such as chambers of commerce) to allow those organizations to conduct further compliance assistance among their members. March 5, 2003 Grant Announcement: http://www.usdoj.gov/crt/osc/pdf/03-grants.pdf List of Current Grantees Operating in FY 2003: http://www.usdoj.gov/crt/osc/press/02grantpr.htm.

OSC address and phone numbers: Office of Special Counsel for Immigration Related Unfair Employment Practices, Civil Rights Division, Department of Justice, Post Office Box 27728, Washington, DC 20038-7728. Telephone: 202-616-5594.

OSC Employer Hotline: Voice: 1-800-255-8155, TDD: 1-800-362-2735.

Drug Enforcement Administration

Small Business Regulatory Fairness Advisory: www.DEAdiversion.usdoj.gov/pubs/fair_adviz.htm.

For Field Offices if they have any questions regarding DEA's regulations and policies. If they are a small business, they may contact the SBA's Office of the Ombudsman to comment on DEA's enforcement actions. This Advisory is also included in all revised and new manuals.

Seminars/Classes

• Chemical training for importers/exporters: www.DEAdiversion.usdoj.gov/mtgs/dea_mtgs.html

• Pharmaceutical Training Seminars for importers/exporters and manufacturers: www.DEAdiversion.usdoj.gov/mtgs/dea_mtgs.html, www.DEAdiversion.usdoj.gov/quotas/index.html.

Web-Based Compliance

• A wide variety of online forms: http://www.DEAdiversion.usdoj.gov/online_forms.html.

Onsite Evaluation/ Assistance

• List of local field offices: www.DEAdiverison.usdoj.gov/offices_n_dirs/index.html.

Unless otherwise listed above, requests for information or reports should be mailed to: Drug Enforcement Administration, Office of Diversion Control / ATTN: Washington, DC 20537.

DRS address and phone number: Disability Rights Section, Civil Rights Division, P.O. Box 66738, Washington, DC 20035-6738. Telephone: 202-307-0663. Fax: 202-307-1198.

ADA Information Line: 800-514-0301, 800-514-0383 (TTY).

Drug Enforcement Administration Contact (for regulatory and enforcement matters): Patricia Good, Chief, Liaison and Policy Section, Office of Diversion Control, Drug Enforcement Administration, Washington, DC 20537. Telephone: 202-307-7297. Fax: 202-307-8570.

Justice Department contacts for Department wide matters (such as the Ombudsman's Reports to Congress) and other issues of general agency concern:

Kevin R. Jones, Deputy Assistant Attorney General, Office of Legal Policy, Department of Justice, Main Building, Room 7238, 950 Pennsylvania Avenue, NW., Washington, DC 20530. Telephone: 202-514-4604. Fax: 202-514-9112. E-mail: Kevin.r.jones@usdoj.gov.

Robert Hinchman, Senior Counsel, Office of Legal Policy, Department of Justice, Main Building, Room 7236, 950 Pennsylvania Avenue, NW., Washington, DC 20530. Telephone: 202-514-8059. Fax: 202-514-9112. E-mail: robert.hinchman@usdoj.gov.

Justice Department contact for general public affairs inquiries: Barbara Comstock, Director, Office of Public Affairs, Main Building, Room 1248, 950 Pennsylvania Avenue, NW., Washington, DC 20530. Telephone: 202-514-2007. Fax: 202-513-5331.

Justice Department Single Point of Contact: Joseph K. Bryan, Director, OSDBU, 1331 Penn Ave. NW., National Place Bld., Suite 1010, Washington, DC 20530. Telephone: 202-616-0521. Fax: 202-616-1717. E-mail: Joseph.k.bryan@usdoj.gov.

Labor

The U.S. Department of Labor (DOL) is committed to significantly enhance its compliance assistance efforts. The goal of compliance assistance is to protect the wages, health benefits, retirement security, safety and health of America's workforce by preventing employment law violations. DOL has developed the following to ensure that employers and workers have access to clear and accurate information and assistance—when and where they need it, and in the format that suits them best.

Department of Labor Web Site

DOL's principal Web site— www.dol.gov—provides America's employers and workers with access to a wide range of services and employment and regulatory information. Easy access to DOL agencies' compliance assistance information and resources is available through DOL's Office of Compliance Assistance Policy Web site, www.dol.gov/compliance.

Elaws Advisors

The elaws Advisors (Employment Laws Assistance for Workers and Small Businesses) are Web-based, interactive tools that help individuals understand Federal employment laws. Each elaws Advisor mimics the interaction an individual would have with a DOL employment law expert by asking the appropriate questions and then providing answers based on the individuals responses. The newest elaws Advisor, the FirstStep Employment Law Advisor, helps employers simply and quickly determine which of the major employment laws administered by DOL apply to their business or organization and provides easy-to-access information about how to comply with each law's requirements. www.dol.gov/elaws

Toll-free Information Service

This Information Services is a central access point to information on a range of employment rules and issues. By calling 1-866-4-USA-DOL, individuals can find answers to questions about job loss, business closures, pay and leave, workplace safety and health, pension and health benefits, and reemployment rights for Veterans, National Guard members and Reservists. 1-866-4-USA-DOL (TTY: 1-877-889-5627)

SBREFA Toll-free line

Small businesses may contact DOL's Office of Small Business Programs (OSBP) directly with their compliance assistance or regulatory fairness questions by calling 1-888-9-SBREFA (1-888-972-7332).

E-Mail Response Service

DOL's coordinated e-mail response service allows employers and employees to ask questions about employment and regulatory issues electronically. By choosing from a list of topics or internal DOL agencies under the “Contact Us” section of the DOL Web site, users are ensured that their question will go to the appropriate office and that they will receive an answer in a timely manner.

Small Business Compliance Assistance Information Inventory

More than 300 publications are in this comprehensive list of DOL small business compliance assistance publications. Copies are available by calling 1-888-9-SBREFA (1-888-972-7332)

Employment Law Guide

The Employment Law Guide describes DOL's main laws & regulations in plain language for employers needing introductory information to develop wage, benefit, safety & health, and nondiscrimination policies for their businesses. It is available online and in print, in English and Spanish. Copies are available free of charge by calling DOL's Toll-Free Information Service at 1-866-4-USA-DOL.

Wage and Hour Issues

The Employment Standards Administration, Wage & Hour Division (WHD) enforces the minimum wage, overtime and child labor provisions of the Fair Labor Standards Act (FLSA), the Family and Medical Leave Act (FMLA), the Migrant and Seasonal Agricultural Worker Protection Act (MSPA), employment standards and worker protections provided in several non-immigrant worker programs of the Immigration and Nationality Act, and the prevailing wage requirements of the Davis-Bacon Act (DBA), the Service Contract Act (SCA) and related statutes.

WHD gives compliance assistance through its Web site, interactive elaws advisors (FLSA, FMLA), toll free phone service, email, printed materials, workshops and presentations.

• WHD on the Web: www.wagehour.dol.gov.

• WHD Contact Information: www.dol.gov/esa/contacts/whd/america2.htm.

• Telephone Number: 1-866-4USWAGE (1-866-487-9243).

Federal Contract Compliance

The Employment Standards Administration, Office of Federal Contract Compliance Programs (OFCCP) administers three equal employment opportunity programs that apply to Federal contractors and subcontractors: Executive Order 11246, as amended, Section 503 of the Rehabilitation Act of 1973 and affirmative action provisions of the Vietnam Era Veteran's Readjustment Assistance Act of 1974. OFCCP also shares authority for regulations requiring equal employment opportunity and affirmative actions in apprenticeship programs, Title I of the Americans with Disabilities Act, the Immigration Reform and Control Act and the Family and Medical Leave Act.

OFCCP gives compliance assistance through its Web site, interactive on-line advisors, email, toll-free telephone service, workshops and seminars.

• OFCCP on the Web: www.dol.gov/esa/ofccp.

• OFCCP Contact Information: www.dol.gov/esa/contact/ofccp/ofcpkeyp.htm.

• Telephone Number: 1-202-693-0101.

Retirement and Health Benefits

The Employee Benefits Security Administration (EBSA) assists employers and employee benefit plan practitioners in understanding and complying with the requirements of the Employee Retirement Income Security Act (ERISA) as it applies to administering employee pension and health benefit plans. EBSA promotes voluntary compliance through the Voluntary Fiduciary Correction Program and the Delinquent Filer Compliance Program and through strategic alliances with professional organizations and Federal, state and local governments.

EBSA gives compliance assistance through its Web site, printed materials, interactive on-line advisors, email, toll-free telephone service, workshops and seminars.

• EBSA on the Web: http://www.dol/ebsa.

• EBSA Contact Information for Electronic Inquiries: www.askebsa.dol.gov.

• Telephone Number: 1-866-444-3272.

Occupational Safety and Health

The Occupational Safety and Health Administration (OSHA) works to save lives, prevent injuries and protect the health and safety of America's workers. Nearly every worker in the U.S. comes under OSHA's jurisdiction as defined by the Occupational Safety and Health Act of 1970 (exceptions include miners, transportation workers, many public employees and the self-employed).

OSHA gives compliance assistance through its Web site, printed compliance guides, toll-free telephone service, e-mail and online interactive advisors. Free workplace consultations are available in every state to small businesses that need assistance in establishing safety and health programs and identifying and correcting workplace hazards. A network of OSHA Compliance Assistance Specialists in local offices provides tailored information and training to employers and employees. The Voluntary Protection Programs (VPP) and other strategic partnerships help to recognize and build upon successful practices in occupational safety and health management.

• OSHA on the Web: www.osha.gov.

• Telephone: 1-800-321-OSHA (1-800-321-6742).

• OSHA Contact Information: www.osha.gov/html/oshdir.html, (202) 693-2317.

Mine Safety and Health

The Mine Safety and Health Administration (MSHA) works to protect the health and safety of workers in America's mines by working cooperatively with industry, labor and other Federal and state agencies. MSHA's responsibilities are outlined in the Federal Mine Safety and Health Act of 1977, commonly called the Mine Act, which applies to all mining and mineral processing operations in the U.S. regardless of size, number of employees or method of extraction.

MSHA gives compliance assistance to mine operators and workers through its Web site and by direct contact of agency enforcement, technical support, and education and training field personnel. MSHA established its Small Mine Office to address safety and health needs of small mines specifically and to enable small mines to comply with safety and health laws as readily as medium- or large-sized mines. The Small Mine Office focuses exclusively on compliance assistance and conducts no enforcement activities.

• MSHA on the Web: www.msha.gov.

• MSHA Contact Information: www.msha.gov/contactmsha/contactmsha.htm.

• Telephone Number: 1-202-693-9400.

Veterans' Employment and Training

The Veterans' Employment and Training Service (VETS) helps Veterans, Reservists and National Guard members effectively prepare for and secure employment and to protect their employment—and training related rights. VETS offers employment, training assistance, and services to eligible veterans, including homeless veterans, through grants to states, local governments and non-profit organizations. VETS also administers the Uniformed Services Employment and Reemployment Rights Act (USERRA) and provides information about veterans' rights under the Veterans Employment Opportunities Act (VEOA) and the Federal Contract Program, which requires Federal contractors to take affirmative action to hire and promote qualified veterans.

VETS delivers compliance assistance through its Web site, printed materials, e-mail and interactive online elaws advisors.

• VETS on the Web: www.dol.gov/vets.

• VETS Contact Information: www.dol.gov/vets/aboutvets/contacts/main.htm.

• Telephone Number: 1-202-693-4700.

Labor-Management Standards

The Employment Standards Administration, Office of Labor-Management Standards (OLMS) administers and enforces most of the Labor-Management Reporting and Disclosure Act (LMRDA) of 1959. OLMS also administers provisions of the Civil Service Reform Act of 1978 and the Foreign Service Act of 1980 relating to standards of conduct for Federal employee unions. OLMS also administers employee protection provisions in the Federal mass transit law.

OLMS gives compliance assistance through its Web site, publications, e-mail, workshops and other group presentations. An OLMS Web site— www.union-reports.dol.gov—lets users view and print union annual financial reports. It features a powerful union data search system that can produce lists tailored to users' needs. OLMS recently expanded the site to let users view and print reports by employers and labor relations consultants.

• OLMS on the Web: www.olms.dol.gov.

• OLMS Contact Information: www.dol.gov/esa/contacts/olms/lmskeyp.htm.

• Telephone: 1-202-693-0123 (union member rights); 1-202-693-0126 (transit employee protections).

Small Business Paperwork Relief Act of 2002

DOL point of contact for collection of information and control of paperwork: Barbara Bingham, Director, Office of Compliance Assistance Policy, Office of the Assistant Secretary for Policy, U.S. Department of Labor, 200 Constitution Avenue, NW., Rm. S2312, Washington, DC 20210. Telephone: 202-693-5080.

Small Business Regulatory Enforcement Fairness Act of 1996

DOL ombudsman to small businesses including responding to inquiries or complaints: Joe Lira, Director, Office of Small Business Programs, U.S. Department of Labor, 200 Constitution Avenue, NW., Rm. C-2318, Washington, DC 20210. Telephone: 202-693-6460

State

• Compliance Assistance Resources: www.state.gov/m/a/sdbu.

• Compliance assistance: http://www.state.gov/m/a/sdbu/c9124.htm.

The Office of Small and Disadvantaged Business Utilization (OSDBU) webpage links to a number of federal agencies: www.osdbu.gov.

• Publications: A Guide to Doing Business with State Department. Forecast of Contract Opportunities and others are available electronically on the webpage.

• Workshops: State/OSDBU presents a number of workshops throughout the year as part of its outreach efforts. These workshops include “in reach” to our State Department customers and cover topics related to the Small Business Program. State/OSDBU staff members are often invited to participate on workshops or panels hosted by small business trade associations, Chambers of Commerce or other groups representing the interests of small business.

• Training Sessions: We sponsor training sessions for State Department employees. Examples: Small Business Program training module at Foreign Service Institute's GSO Course. Participation in regional GSO Conferences hosted by State's Office of Logistics Management. (e.g., New Delhi, India and Gaborone, Botswana in 2002). Also participate in State Department events designed for private industry such as Bureau of Overseas Buildings Operation's Industry Day). State hosts an annual Prime Contractor training session. The morning is a refresher for large primes on regulations and reporting requirements governing subcontracting. The afternoon session is for networking between large primes and “hot prospect” small businesses.

• Small Business Fairs: State/OSDBU hosts an annual Small Business Fair, which features “common usage” items typically purchased using the government credit card or GSA schedule. In November 2002, we hosted a Veteran-owned Small Business Conference. We are also co-hosts of quarterly Information Technology Expositions, for which the Bureau of Information Resource Management takes the lead. We co-sponsor with other federal OSDBUs an annual conference each April, at Show Place Arena in Upper Marlboro, Maryland. This year's event, held on April 23rd, attracted over 1500 participants from all over the country. State/OSDBU also supports Small Business Fairs hosted by other federal agencies, by small business trade associations, or by members of Congress. During FY-2002 to date, we have participated in over 30 such events.

State Department Single Point of Contact: Gregory K.O. Davis, Regulatory Coordinator, A/RPS/DIR, 1800 G Street, NW., Suite 2400, SA-22, Washington, DC 20522-2201. Telephone: 202-312-9607. Fax: 202-312-9603. Intranet: http://arpsdir.a.state.gov. Internet: http://foia.state.gov/famdir/fam/fam.asp.

Transportation

Web-based Compliance: Office of Small & Disadvantaged Business Utilization, www.osdbuweb.dot.gov.

Drug and Alcohol Policy and Compliance: www.dot.gov/ost/dapc.

Telephone: Small Business Customer Service Center, 1-800-532-1169.

Office of Drug Enforcement and Program Compliance (DEPC): 1-800-225-3784 (fax on demand service).

Seminars/Classes: Transportation Marketplace Conferences, www.osdbuweb.dot.gov.

Breath Alcohol Technician Training and Screening, Test Technician Training Manuals, Transportation Safety Institute, Marti Bludworth, DTI-100, 400 Will Rogers Parkway, Suite 205, Oklahoma City, OK 73108. (405) 949-0336, x 323.

Online/e-mail Service News By E-mail: www.osdbuweb.dot.gov.

Central Docket Management System: www.dms.dot.gov.

Office of Aviation Analysis: www.ostpxweb.dot.gov/aviation.

Drug and Alcohol Policy and Compliance Program Guidance Material: www.dot.gov/ost/dapc/prog_guidance.html.

Online purchases and payments: www.Diy.dot.gov.

Publications: The Transportation Link Newsletter; Marketing Information Package Fax on Demand Catalog; www.osdbuweb.dot.gov/, 1-800-532-1169.

Federal Highway Administration

Web-based Compliance: www.fhwa.dot.gov.

Publications: Citizens Guide to Transportation Decision-making; National Dialogue on Operations; An Overview of Transportation and Environmental Justice; Transportation Conformity, A Basic Guide for State and Local Officials, Revised 2000; A Guide to Metropolitan Planning Under ISTEA, How the Pieces Fit Together; Federal Size Regulations for Commercial Motor Vehicles; and Bridge Formula Weights (all the above are available at the Web site).

Federal Aviation Administration

Web-based Compliance: www.faa.gov/avr/arm/sbrefa.htm.

E-mail Service: 9-AWA-SBREFA@faa.gov.

Telephone Service: 1-888-551-1594, 1-800-255-1111 (Safety Hotline).

On-site Assistance: Charlene Brown, 800 Independence Ave., SW., Room 808, Washington, DC 20591.

Bureau of Transportation Statistics

Web-based Compliance: www.bts.gov/mcs/desc.html; www.fmcsa.dot.gov/factsfigs/ets/index/html (See Table of Contents Financial and Operating Statistics); and www.bts.gov/oai.sources (Office of Airline Information).

E-mail Service: answers@bts.gov.

Telephone Service: 1-800-853-1351 (General Information), 1-202-366-4888 (public data from air carrier reports).

Publications: Worksheet for Calculating Carrier Classification (Motor Carriers of Passengers); Worksheet for Calculating Carrier Classification (Motor Carriers of Property); Information Sheet for Form QFR and many others available through the Web site.

On-site Assistance: Bureau of Transportation Statistics, 400 7th Street, SW, Room 3103, Washington, DC, L'Enfant Plaza Metrorail Station (7th and D Street exit).

Reports Reference Facility (public data from air carrier reports), 400 7th Street, SW, Room 4201, Washington, DC.

Federal Railroad Administration

Web-based Compliance: www.fra.dot.gov.

Telephone Service: 202-493-6395 (Office of Policy & Program Development).

Federal Transit Administration

Web-based Compliance: www.fta.dot.gov.

Telephone Service: 1-800-527-8279 (National Transit Resource Center).

Publications: www.fta.dot.gov/library.

Federal Motor Carrier Safety Administration

Web-based Compliance: www.fmcsa.dot.gov and www.1-888-dot-saft.com.

Telephone Service: 1-800-832-5660 (Information Line), 1-800-368-7328 (Consumer complaint hotline), 202-366-9805 (Licensing Information), 202-385-2423 (Insurance Information).

National Highway Traffic Safety Administration

Web-based compliance: www.nhtsa.dot.gov.

Telephone Service: 1-800-DASH-2-DOT (1-800-327-4236).

Publications: www.nhtsa.dot.gov/people/outreach/media/Publications/Indes.cfm (Online publications library).

Maritime Administration

Web-based Compliance: www.marad.dot.gov.

Telephone Service: 202-366-4610 (Cargo Preference Program), 202-366-8888 (Intermodal Development), 202-366-8887 (Environmental Activities), 202-366-1931 (Maritech Program), 202-366-5744 (Maritime Loan Guarantee), 202-366-1931 (National Maritime Resource and Education Center), 202-366-4610 (Ocean Freight Differential), 202-366-2324 (Operating Differential Subsidy), 202-366-2625 (Ship Operation Cooperative Program), 202-366-2400 (War Risk Insurance Program), 202-366-5821 (Vessel Transfer Program).

Publications: www.marad.dot.gov/publications (online library).

Research and Special Programs Administration

Web-based Compliance: www.rspa.dot.gov; www.hazmat.dot.gov; and www.ops.dot.gov.

Telephone Service: 202-366-4595 (Office of Pipeline Safety), 1-800-HMR-4922 or 202-366-4488 (Hazardous Materials Information Center), 202-366-4900 (Office of Hazardous Materials Initiatives and Training), 202-366-4484 (Hazardous Materials Incident Reports).

Fax Service: 1-800-467-4922 (Hazardous Materials fax on demand), 202-366-4566 (Office of Pipeline Safety fax).

E-mail Service Grants@rspa.dot.gov, Infocntr@rspa.dot.gov, Register@rspa.dot.gov, Training@rspa.dot.gov, Welisten@rspa.dot.gov.

Seminars/Classes: Transportation Safety Institute (Compliance Inspection Comprehensive Operator Qualification, OPS); Risk Management Conference/Public Meeting Proceedings (Hazmat and OPS) www.tsi.dot.gov.

Publications: Pipeline Risk Management Newsletter, Oil Pollution Act Newsletter, Hazmat Safety Alerts.

Department of Transportation Single Point of Contact: Daniel P. Matthews, Chief Information Officer, U.S. Department of Transportation 400 Seventh Street, SW., Washington, DC 20590.

Telephone: 202-366-9201.

Fax: 202-366-7373, http://cio.ost.dot.gov/contact/index.html

Treasury

Office of Small Business Development

www.treas.gov/sba.

Our Office of Small Business Development has a robust small business program to ensure both small business prime and subcontracting opportunities. The following examples, initiatives, and partnerships demonstrate Treasury's commitment:

Outreach Efforts

• Maintain a vigorous small business procurement Web site (www.treas.gov/sba).

• Treasury's annual forecast of contract opportunities and small business subcontracting opportunities directory are posted on the small business Web site, and we make hard copies available upon request and at all of the small business outreach events we attend.

• Our highly successful Treasury Monthly Vendor Outreach Session program allows small businesses to meet with Treasury bureau small business specialists. We also include special guests representing other federal agencies or prime contractors to discuss procurement opportunities on a pre-arranged 15 minute basis in one central location. Our schedule is published a year in advance to allow small business to plan their marketing efforts.

• Treasury's outreach efforts also include two Treasury IT Program Manager Vendor Outreach Session events each year (this event is modeled after our Monthly Vendor Outreach Session).

• In Treasury's capacity as Chair of the OSDBU Directors Interagency Council outreach committee, we have taken the lead on the government-wide Annual OSDBU Directors Procurement Conference held in April of each year. This event is also posted on our Web site.

• We have also focused our efforts in targeted outreach on a nationwide basis, such as trade fair participation, seminar presentations, panel program discussions on specific topics, and one-on-one counseling.

• The OSBD has built a solid relationship with a variety of small business trade associations. On April 12, 2000, Treasury entered into an historic Memorandum of Understanding with 17 small, minority, and women-owned small business trade associations to increase the ability of small minority and women-owned small businesses to compete for Treasury procurements in industries reflecting under-representation while maintaining participation in industries with successful utilization.

• A list of the Top 25 Treasury purchases is published, listed by industry classification over a five year period to provide an opportunity for “targeted outreach'.

• Treasury implemented a mentor-protégé pilot program. We are the only agency in which protégés may be small businesses of all types—SB, SDB, WOSB, HUBZSB, SDVOSB, and VOSB.

Treasury Single Point of Contact: Jody Falvey, Acting Director, Office of Small Business Development, U. S. Department of the Treasury, 1500 Pennsylvania Avenue, NW., Mail Code: 1310G/400W, Washington, DC 20220. Telephone: 202-622-2826. Fax: 202-622-4963. E-mail: Jody.Falvey@do.treas.gov.

Internal Revenue Service

The IRS Compliance Assistance Resources are those that help taxpayers comply with Federal tax law. IRS makes every effort to inform, assist and educate taxpayers.

Compliance Assistance Program Description. The Small Business/Self-Employed (SB/SE) operating division is structured to best serve taxpayers whose needs are more complex than wage and investment taxpayers. This division serves about 7 million small businesses, including corporations and partnerships with assets of $10 million or less. While many face the same tax issues as large corporations, they often do not have tax professionals on staff. Tax compliance issues often stem from a lack of understanding of tax law requirements, inadequate accounting practices and resources and cash flow problems.

The approximately 33 million self-employed and supplemental income earners are similar to wage and investment taxpayers, but their tax issues are often more complex. They have substantially higher incomes and file twice the number of forms and schedules, requiring more time to prepare taxes, a greater reliance on paid tax preparers and more IRS expertise.

Headquarters

The SB/SE Taxpayer Education and Communication (TEC) educates and informs SB/SE taxpayers and representatives about their tax obligations by developing educational products and services focused on customer needs and by providing top quality pre-filing services to help taxpayers understand and comply with the tax laws.

TEC headquarters provides leadership and direction in the design, development, and delivery of services for small business stakeholders. Activities of headquarters staff include formulating short and long-range program policies, strategies, and objectives to educate and inform stakeholders. TEC headquarters also coordinates program activities with other top level IRS executives to prepare Service-wide policies, address cross-functional issues, develop strategies, and ensure consistency of approach. TEC collaborates with major stakeholders to identify, develop and maintain leveraged partnerships through negotiated voluntary agreements.

Partnership Outreach develops and delivers educational products and services focused on customer needs, and leverages partnerships with major stakeholders through negotiated agreements to assist in the delivery of these products and services. The primary focus is on proactively identifying emerging trends, common errors, and common areas of non-compliance, and developing products, services and programs to address these issues and encourage compliance.

Business Marketing Services plans and executes the promotion and distribution of all traditional SB/SE products and services to TEC employees, key stakeholders, and targeted taxpayer audiences in order to satisfy external customer needs and internal organizational objectives. Business Marketing Services is also focused on developing strategies for increasing usage of electronic products and implementing them effectively for not only the small business community but also the more uniquely emerging self-employed taxpayer segment.

Office of Taxpayer Burden Reduction provides direction and leadership for burden reduction by focusing on six areas:

• Simplifying forms and publications;

• Streamlining internal policies and procedures;

• Promoting less burdensome rulings, regulations and law;

• Assisting in the development of a burden reduction measurement methodology;

• Partnering with internal and external stakeholders to more effectively and efficiently identifying and address burden reduction initiatives; and

• Chairing the Taxpayer Burden Reduction Council, which develops cross-divisional proposals for burden reduction and coordinates and sponsors burden reduction efforts throughout the Service.

Field Organization

A geographically dispersed field force provides top quality pre-filing service via educational products, services, agreements, and programs that help them understand and comply with applicable tax laws. The field force also supports filing activities, including walk-in sites and R-mail sites, during peak filing season and other times as needed.

IRS Area Distribution Centers (ADCs) serve as distribution points for tax products. Tax products can be ordered free of charge from the ADCs at 1-800-829-2437.

Telephone Assistance Through Customer Account Service

• Tax Assistance—1-800-829-1040.

• Forms, Form Instructions and Publications—1-800-829-3676.

• Small Business and Specialty Taxes—1-800-829-4933.

• Compliance Assistance Products—1-800-829-2765.

• Tax Refund Hotline—1-800-829-1954.

• Recorded Tax Information (Tele-Tax) 24 hour service—1-800-829-4477.

• Assistance for the Hearing Impaired—1-800-829-4059.

• To suggest improvements to IRS Procedures—1-888-912-1227.

• Taxpayer Advocate Service Hotline—1-877-777-4778.

Taxpayers who need more information than is provided by Customer Account Service via the toll-free number are directed to Referral mail at http://www.irs.gov/help/index.html. This site was created to answer general tax law questions.

Web Sites/Internet

• http://www.irs.gov—IRS Web site.

• http://www.irs.gov/smallbiz—IRS Small Business Web site.

• http://www.irs.gov/smallbiz—Visits to the Internet on IRS.gov have grown from 1,470 visits in April 2001 to 694,514 visits as of March 2003. The SB/SE Internet site has had 4,690,252 visits from April 2001 to March 2003.

• http://www.irs.gov/newsroom/index.html—News.

• http://www.irs.gov/taxpros/content/0,,id=103728,00.html—Plain Language Regulations.

• Tax Centers on Partners' Web site—IRS has developed 10 partnerships by establishing Tax Center Web sites on the partners' sites. Tax Centers have comprehensive links customized to the partners' needs and organized by topic to various parts of irs.gov. For example: Tax Center Web site— http://sba.gov/bi/irstaxcenter.doc.

Training/Workshops/Seminars

Practitioner Institutes

Practitioner Institutes serve as part of an overall practitioner education curriculum, which includes Tax Talk Today, the Nationwide Tax Forum, local liaison meetings, etc. They provide a much-needed venue for delivering the IRS message to about 25,000 direct participants, which prepare countless tax returns for the public each year. The Tax Practitioner Institutes have been going on for nearly 60 years in some parts of the U.S. Over the years the institutes have evolved into forums that deal with a large variety of income tax issues of interest to the entire tax practitioner community.

Leveraged Small Business Workshop Student/Instructor Materials

IRS has adopted three models for fully leveraged small business workshops that our partners can offer as a client service to help the smallest and newest businesses:

• Partner organizations organize, market and staff live workshops using IRS materials or their own.

• Partnership organizations link to IRS’ on-line small business workshop products and market them to their members.

• Partner organizations distribute Pub. 3700, A Virtual Small Business workshop CD-ROM (November 2001) and Pub. 3693, Introduction to Federal Taxes for Small Business-Self Employed: Getting Your Business Off to a Successful Start CD-ROM (Sept 2001) to their members and/or let them know how to order it. Pub. 3700 has Spanish and Mandarin closed captions.

Tax Talk Today is a monthly program about current tax issues and policies sponsored in part by the IRS. It provides unbiased insight and information about current tax and business issues critical to tax professionals. All of the programs feature a panel discussion, questions and answers from viewers, current tax news stories, and tax teasers. The format allows viewers to ask questions via e-mail, fax or telephone. Web site: http://www.taxtalktoday.tv/

Products Developed Specifically for Small Business

The role of the SB/SE TEC division is to address compliance through education and marketing to our Small Businesses and Self-Employed taxpayers. IRS develops educational products and services focused on customer needs to provide top quality pre-filing services to help taxpayers and stakeholders understand and comply with the tax laws. Products can be ordered online or by calling 1-800-829-3676. Web site: http://www.irs.gov/businesses/small/article/0,,id=101169,00.html

Forums

• Payroll/Practitioner Forums are an extension of the bi-monthly National Public Liaison (NPL) meetings. The Forums provide an opportunity for the subject matter experts (SMEs) and payroll/practitioner representatives to “work through” the issues raised from suggested topics on the agenda.

• Small Business Forums are held with external small business groups and associations. The primary focus of these meetings is to provide an avenue for an open exchange of information with external stakeholders. The forums also give them an opportunity to share feedback concerns on behalf of their small business members. Monthly schedule: http://www.irs.gov/businesses/small/article/0,,id=106266,00.html

• IRS Nationwide Tax Forums are one of the IRS's largest and most effective outreach programs to the tax professional community. During July, August, and September, the IRS will present six tax forums nationwide, including seminars, a trade show, and an awards banquet. These forums are designed to give tax professionals valuable information to improve their business. Web site: http://www.irs.gov/taxpros/article/0,,id=97192,00.html

Tax Assistance Centers

Your one-stop resource for face-to-face tax help. These sites provide assistance in the preparation of returns as well as resolution of less complex accounts and compliance issues for taxpayers that require face-to-face assistance. The locations and hours of operation are available at Web site: http://www.irs.gov/localcontacts/index.html.

IRS also offers free income tax assistance for low income, disabled, elderly and non-English speaking taxpayers through the Volunteer Income Tax Assistance program (VITA) and Tax Counseling for the Elderly program (TCE). A free tax preparation site can be located by calling Customer Account Services at 1-800-829-1040.

Non-retaliation Policy

The IRS has a zero tolerance policy for retaliation and has had a written non-retaliation policy since 1998. On July 22, 1999, the President signed the landmark “IRS Restructuring and Reform Act (RRA) of 1998. The IRS has taken a number of steps to prevent retaliation and has put policies in place to deal with it effectively, should it occur. Sec. 1203 of RRA'98 provides for the mandatory termination of IRS employees under various specific instances of misconduct and provides a number of key taxpayer safeguards. This serves as a strong deterrent to any employee who might consider taking retaliatory action. Web site: http://www.irs.gov/individuals/article/0,,id=97348,00.html.

Taxpayer Advocate Service (TAS)

TAS is an independent organization that helps taxpayers resolve problems with the IRS and recommend changes that will prevent tax problems. The Taxpayer Advocate Service Office of Systemic Advocacy provides oversight and direction for identifying, an analyzing systemic, procedural and operations problems. This office announced on March 13, 2003 the development of a new internet-based program for submitting systemic problems and suggestions to improve tax administration. Web site: http://www.irs.gov/advocate/index.html

Taxpayer Education and Communication (TEC) Outreach Products

TEC Outreach Products can be ordered online or by calling 1-800-829-3676 and viewed at: http://www.irs.gov/businesses/small/article/0,,id=101169,00.html.

Small Business One-Stop Resource http://www.irs.gov/businesses/small/index.html

Points of Contact for IRS

Single point of contact for Compliance Assistance Resources IRS Web site: http://www.irs.gov/businesses/index.html.

Single point of contact for Paperwork Relief Act of 2002: Michael Chesman, Director, Office of Taxpayer Burden Reduction, Telephone: 202-283-7673. Michael.R.Chesman@irs.gov.

Veterans Affairs

Consistent with SBREFA, compliance assistance is funneled through the two Web sites above to register complaints or ask for assistance. Most other VA offices will ensure that appropriate certifications are published in VA regulations that they do not affect small business entities. Small businesses can comment on VA regulations during the informal rulemaking process, after they are published as proposed rules in the Federal Register.

• Office of Small and Disadvantaged Business Utilization: http://www.va.gov/osdbu

• Center for Veterans Enterprise: http://www.vetbiz.gov

Veterans Affairs Single Point of Contact: Ramsey Alexander, Jr., Senior Procurement Analyst, OSDBU (00SB), Department of Veterans Affairs, 810 Vermont Avenue, NW., Washington, DC 20420, Telephone: 202-565-8133, Toll Free: 800-949-8156. E-mail: ramsey.alexander@mail.va.gov.

Agency for International Development

U.S. Agency for International Development (USAID) Single Point of Contact: Marilyn S. Marton, Director, Office of Small & Disadvantaged Business Utilization (OSDBU), U.S. Agency for International Development, 1300 Pennsylvania Avenue, NW., Washington, DC 20523-7800, Telephone: 202-712-1500, Fax: 202-23165-3056. E-Mail: mmarton@usaid.gov.

Commodity Futures Trading Commission

The Commodity Exchange Act (CEA) establishes a regulatory scheme for the commodity futures and options industry that generally depends on industry self-regulation with federal oversight by the Commodity Futures Trading Commission (CFTC). The National Futures Association (NFA) and other self-regulatory organizations (SROs) generally conduct routine compliance reviews in the futures industry. The NFA is responsible for most of the compliance reviews of retail sales practices in the industry and in this regard, it has a program for the voluntary review of promotional materials. NFA's Internet Web site includes a “Contact NFA” section providing telephone numbers for its general Information Center and specific compliance contact personnel (www.nfa.futures.org/contact/indexContact.asp), as well as various published compliance information (www.nfa.futures.org/compliance/publications.aspm).

The CFTC provides compliance guidance to small businesses through several methods. The CFTC's Internet Web site includes a “Law & Regulation” section (www.cftc.gov/cftc/cftclawreg.htm) providing general information concerning the requirements of the CEA, CFTC Orders, and staff exemptive, no-action and interpretive letters. This section links to a specific “Compliance” page (www.cftc.gov/tm/tmcompliance.htm) that contains guidance to assist firms and individuals who conduct commodity futures and options business with customers in complying with the CEA provisions and CFTC Regulations applicable to their activities. Informal guidance also is available through the “Publications” section of the CFTC Web site (www.cftc.gov/cftc/cftcreports.htm), which contains “CFTC Backgrounders” and other brochures providing information of use to small businesses. Staff members in the CFTC's various divisions offer informal assistance and guidance in response to telephone inquiries and e-mail messages submitted through the CFTC Web site. These include:

• The Division of Clearing and Intermediary Oversight [(202) 418-5430]—inquiries concerning rules governing protection of customer funds, trading and sales practice issues, registration and disclosure issues, and financial requirements.

• The Division of Market Oversight [(202) 418-5260]—Inquiries concerning market and product design, market surveillance, position reporting, and trade practice issues.

• The Office of General Counsel [(202) 418-5120]—assigns an “Attorney of the Day” to answer telephone inquiries about the CEA and CFTC Regulations.

• The Division of Enforcement—provides notice to small businesses about their right to comment on CFTC actions pursuant to the Small Business Regulatory and Enforcement Fairness Act (SBREFA) whenever it makes a request to provide information voluntarily or pursuant to subpoena or the inspection provisions of the CEA. The CFTC and its staff are committed to ensuring that small businesses are provided a non-retaliatory environment in which to exercise their right to comment.

The CFTC has a small business liaison located in the Office of External Affairs. When the agency receives inquiries related to small business, such as communications from the office of the National Ombudsman, they are forwarded to the liaison. The liaison also works with the Ombudsman to provide information and resolve any issues or complaints received by the Ombudsman's office.

Commodity Futures Trading Commission Single Point of Contact: Terry S. Arbit, Associate General Counsel, (Legislative Affairs), Three Lafayette Centre, 1155 21st Street, NW., Washington, DC 20581, Telephone: 202-418-5257. E-mail: tarbit@cftc.gov.

Consumer Product Safety Commission

• http://www.cpsc.gov/businfo, 1-800-638-CPSC

• CPSC offers publications, web based compliance and on-line / e-mail service, including, but not limited to A Small Business Guide to the U.S. CPSC http://www.cpsc.gov/businfo/smbudgde.html

Consumer Product Safety Commission Single Point of Contact: Thomas W. Murr, Jr., Deputy Executive Director, U.S. Consumer Product Safety Commission, 4330 East West Highway, Bethesda, MD 20814, Telephone: 301-504-7907. E-mail: tmurr@cpsc.gov.

DC Court Services & Offender Supervision

DC Court Services & Offender Supervision Single Point of Contact: Jim Williams, Associate Director, Management and Administration, 633 Indiana Avenue, NW., Suite 1323, Washington, DC 20004-2902, Telephone: 202-220-5707. E-mail: jim.williams@csosa.gov.

Environmental Protection Agency

EPA currently has over 100 initiatives, activities, and services directed at small business needs. EPA efforts include a toll-free hotline; newsletters; Web sites; e-mail listserv; information alerts on emerging regulatory issues; industry sector specific guides directed at providing information on specific industry processes, Federal regulatory requirements, compliance history and pollution prevention information; expert systems; voluntary programs; and training programs.

EPA's Small Business Ombudsman (SBO) provides a “gateway” and dedicated support for small businesses to reach EPA compliance assistance resources offered by EPA, the states and other sources. The SBO answers technical and regulatory questions on a toll-free hotline, provides more than 350 free EPA publications, develops compliance assistance tools, and gives direct access to regulatory assistance on a comprehensive Web site. It publishes the SBO newsletter twice a year to report important EPA activities and give timely alerts to small businesses and interested service providers on EPA actions. The SBO acts as the focal point and provides multi-level support and coordination for an extensive national network of small business assistance programs, and works with small businesses, service providers, and state and regional officials to address small business needs.

The Small Business Gateway is a Web site that links to EPA's assistance programs for small business. http://www.epa.gov/smallbusiness/

EPA also partners with industry representatives and others on sector-specific Compliance Assistance Centers. The centers support the agriculture, automotive service and repair, chemical manufacturing, metal finishing, paints and coatings, printed-wiring-board manufacturing, printing, transportation, construction, auto recycling, and border compliance sectors by providing tools such as checklists, plain language guides, and technical information to help small businesses understand their regulatory requirements.

Compliance Assistance Centers

• Agriculture http://www.epa.gov/agriculture/

• Auto Service Industry http://www.ccar-greenlink.org/

• Chemicals http://www.chemalliance.org/

• Local Government http://www.lgean.org/

• Metal Finishing http://www.nmfrc.org/

• Paints and Coatings http://www.paintcenter.org/

• Printed Wiring Boards http://www.pwbrc.org/

• Printing http://www.pneac.org/

• Transportation http://www.transource.org/

EPA also manages a National Compliance Assistance Clearinghouse as a guide to compliance information on the Internet. This site gives comprehensive links to EPA environmental compliance assistance materials, as well as materials from all 50 states and other organizations. The Clearinghouse contains many features allowing small businesses to interact directly with EPA and improve communication and collaboration among compliance assistance providers.

EPA's Small Business Compliance Policy promotes environmental compliance among small businesses by providing incentives to discover and make good faith efforts to correct violations. Software is also available to assist in certain reporting requirements. The “Toxics Release Inventory—Made Easy” (TRI-ME) software guides users through the entire Toxics Release Inventory reporting process from start to finish.

Information on EPA's initiatives and activities is available on the EPA Small Business Ombudsman Web site http://www.epa.gov/sbo. This site links to the Small Business Environmental Homepage http://www.smallbiz-enviroweb.org/, which provides extensive small business assistance information. EPA National Asbestos & Small Business hotline for inquiries on environmental regulations may be reached via a toll free number (1-800-368-5888).

Environmental Protection Agency Single Point of Contact: Karen V. Brown, Director, Small Business Division, EPA Small Business Ombudsman (SBPRA point of contact), 1200 Pennsylvania Avenue NW., MC1808T, Washington, DC 20460, Telephone: 202-566-2816, Fax: 202-566-0954. E-mail: brown.karen@epa.gov.

Export-Import Bank

The Export-Import Bank of the United States (Ex-Im Bank) is the official export credit agency of the United States. Ex-Im Bank's mission is to assist in financing the export of U.S. goods and services to international markets. Ex-Im Bank enables U.S. companies—large and small—to turn export opportunities into real sales that help to maintain and create U.S. jobs and contribute to a stronger national economy.

Ex-Im Bank does not compete with private sector lenders but provides export financing products that fill gaps in trade financing. We assume credit and country risks that the private sector is unable or unwilling to accept. We also help to level the playing field for U.S. exporters by matching the financing that other governments provide to their exporters.

Ex-Im Bank provides working capital guarantees (pre-export financing); export credit insurance (post-export financing); and loan guarantees and direct loans (buyer financing). No transaction is too large or too small. On average, 85% of our transactions directly benefit U.S. small businesses.

With nearly 70 years of experience, Ex-Im Bank has supported more than $400 billion of U.S. exports, primarily to developing markets worldwide.

• Export-Import Bank Mission Statement: http://www.exim.gov/about/mission.html

• Pre-Export Financing To Help U.S. Exporters Maximize Borrowing Potential: http://www.exim.gov/products/work_cap.html

• Increase Your Export Sales While Minimizing Risks: http://www.exim.gov/products/insurance/index.html

• Special Initiatives for Underserved Small Businesses: http://www.exim.gov/products/special/underserved.html

Export-Import Bank Single Point of Contact: Letitia Kress, Export-Import Bank, 811 Vermont Avenue, NW., Washington, DC 20571, Telephone: 202-565-3613. E-mail: letitia.kress@exim.gov.

Equal Employment Opportunity Commission

Small Business Initiative

EEOC has developed a Small Business Initiative (SBI) to improve customer service and expand outreach, education, and technical assistance to the small business community. The SBI aims to promote voluntary compliance by building a more cooperative and collaborative relationship with the small and mid-sized business community and to address EEO concerns expressed by small business owners. The main components of the SBI include:

Small Business Liaisons: Every EEOC District office has a Small Business Liaison available to employers who have questions about the laws enforced by EEOC or about compliance with those laws in specific workplace situations. Information on contacting Small Business Liaisons can be found at www.eeoc.gov/small/contacteeoc.html.

Small Business Web Page: www.eeoc.gov/small—While the information on this page applies to all employers, it has been specifically designed for small businesses which may not have a human resources department or a specialized EEO staff. The page is designed to make it easier for small businesses to comply with the anti-discrimination laws and help them in their dealings with the EEOC.

No-Cost Outreach and Education Programs

EEOC's outreach and education programs provide information about the employment discrimination laws enforced by EEOC and the EEOC charge/complaint process. EEOC representatives are available at no cost to make presentations and participate in meetings with employers and their representative groups. For example, EEOC hosts regular meetings with employers and employer groups, such as stakeholder advisory councils to get feedback on legal and operational issues; provides speakers and trainers for conferences, seminars, workshops and classroom presentations and for regular scheduled meetings of organizations, professional associations, etc.; distributes information materials on EEO laws and represent the Commission at events, such as job fairs, conventions and conferences; and participates in media presentations—including radio and TV interviews, as well as cyber-chats.

A list of outreach coordinators and contact information can be found at www.eeoc.gov/outreach/coordinators.html.

Fee-Based Training and Technical Assistance

EEOC presents a wide variety of fee-based training and technical assistance programs throughout the country geared to employers in the private sector, including small businesses, as well as federal, state and local government agencies. Training and technical assistance available includes:

Technical Assistance Program Seminars (TAPS): Seminars emphasize how to prevent EEO problems from developing and how to resolve discrimination complaints effectively when they do arise. Real-life case studies and examples often are used to show how equal employment requirements apply to specific employment practices. Updates on important legal developments, Commission policy and procedures and vital information about EEOC's latest initiatives and alternative dispute resolution program are discussed. Specialized topics will differ by seminar and may include in-depth sessions on issues such as: sexual and racial harassment; complex ADA issues, including the ADA's relation to other workplace laws; and religious and national origin discrimination. Whenever practicable, small group breakouts, question and answer periods, interactive formats and informal discussions are used in the seminars, which enable participants to receive answers to specific EEO questions.

Customer Specific Training Programs: EEOC staff provide specialized training on various employment discrimination topics for employers at their work site or at an organization's meeting or training events.

Training Products: EEOC has developed training course materials on Workplace Harassment Issues: How to Identify, Prevent and Eliminate Workplace Harassment, which are available for employers who want to deliver their own training. Additional training courses on the Americans with Disabilities Act and other topics are under development and will be available in the future.

Information on Training Contacts can be found at www.eeoc.gov/outreach/coordinators.html.

Publications

• EEOC fact sheets, information materials and brochures and other publications are available at no cost. They can be ordered by calling 1-800-669-3362 (voice) or 1-800-800-3302 (TTY) or through the Internet at www.eeoc.gov/publications.html

• Training and Technical Assistance Materials available for direct purchase—A seven volume set of resource manuals provides a comprehensive and invaluable EEO library on employment discrimination issues. Each volume contains training exercises, practical guidance and copies of EEOC's most important policy interpretations, including information concerning recent important Supreme Court decisions affecting Federal EEO law. The volumes are compiled and written by legal experts and training professionals from the EEOC, the Federal agency responsible for enforcing and interpreting the country's various Federal employment discrimination laws. The entire series is updated annually to reflect changes in law, court decisions and new EEOC guidance. These materials are useful for employers, human resource/EEO professionals, attorneys, labor representatives and others interested in EEO matters in the private, federal and state and local government sectors. These manuals can be ordered through www.eeoc.gov/outreach.manuals.html

Web Page

• EEOC's web page— www.eeoc.gov—provides easy-to-use information on federal laws prohibiting job discrimination, including a question and answer format. The site also provides copies of news/press releases, laws enforced by EEOC, regulations, and policy guidance issued by EEOC, as well as information on outreach, training and technical assistance and publications.

• The site provides links to other federal labor law enforcement agencies and other federal agencies which may have information/resources useful to employers.

• EEOC has also worked with many federal agencies, such as the Small Business Administration, Office of the National Ombudsman, to ensure EEOC's web page is available as a link.

New Freedom Initiative

EEOC is working closely with small business organizations and disability groups to conduct a series of free outreach and education events for small businesses as part of President Bush's New Freedom Initiative. EEOC expects to continue putting on these events throughout fiscal years 2003 and 2004. EEOC has also produced The Americans with Disabilities Act: A Primer for Small Business, which is a practical, reader-friendly handbook for the small business person outlining the employment provisions of the ADA as they relate to both employees and job applicants. Information on the workshops is available at www.eeoc.gov/initiatives/nfi/index.html. A copy of the Primer is available at www.eeoc.gov/ada/adahandbook.html.

Guidance Letters

EEOC's Office of Legal Counsel issues approximately 90 significant guidance letters a year explaining the employment discrimination statutes to employers and other stakeholders.

Equal Employment Opportunity Commission Single Point of Contact: Laura Hinton, National Outreach Coordinator, Office of Field Programs, EEOC, 1801 L Street, NW., Washington, DC 20507, Telephone: 202-663-4811. E-mail: laura.hinton@eeoc.gov.

Federal Communications Commission

The Federal Communications Commission (FCC) is an independent U.S. government agency, directly responsible to Congress. The FCC was established by the Communications Act of 1934 and is charged with regulating interstate and international communications by radio, television, wire, satellite and cable. The FCC's jurisdiction covers the 50 states, the District of Columbia, and U.S. possessions. The FCC is directed by five Commissioners appointed by the President and confirmed by the Senate for 5-year terms, except when filling an unexpired term. The President designates one of the Commissioners to serve as Chairperson. Only three Commissioners may be members of the same political party. None of them can have a financial interest in any Commission-related business.

The Commission staff is organized by function. There are six operating Bureaus and ten Staff Offices. The Bureaus' responsibilities include: processing applications for licenses and other filings; analyzing complaints; conducting investigations; developing and implementing regulatory programs; and taking part in hearings. The Offices provide support services. Even though the Bureaus and Offices have their individual functions, they regularly join forces and share expertise in addressing Commission issues. The six operating Bureaus are: Consumer and Governmental Affairs, Enforcement, International, Media, Wireless Telecommunications, and Wireline Competition.

Concerning FCC small entity enforcement and compliance issues, the primary sources for information are the Enforcement Bureau, which enforces the Communications Act as well as the Commission's rules, orders and authorizations, and the Office of Communications Business Opportunities (OCBO), which provides advice to the Commission on issues and policies concerning telecommunications opportunities for small, minority and women-owned communications businesses.

E-Mail, Small Entity Contact Point: ocboinfo@fcc.gov

Telephone Numbers:

• Office of Communications Business Opportunities (OCBO): 202-418-0990

• FCC Consumer Center, Toll-Free Telephone Service: 1-888-CALL-FCC (1-888-225-5322)

• TTY, FCC Consumer Center, Toll-Free Telephone Service: 1-888-TELL-FCC (1-888-835-5322)

• Enforcement Bureau: 202-418-7450

Web site Locations:

• FCC Homepage and News Location: http://www.fcc.gov

• Office of Communications Business Opportunities (OCBO): http://www.fcc.gov/ocbo/

• Consumer Alerts and Factsheets—Directory: http://www.fcc.gov/cgb/information_directory.htm

• Small Entity Compliance Guides: http://www.fcc.gov/ocbo/guides.html

• Current Major Initiatives: http://www.fcc.gov/initiatives.html

• Consumer and Governmental Affairs Bureau: http://www.fcc.gov/cgb/

• Enforcement Bureau: http://www.fcc.gov/eb/

Federal Communications Commission Single Point of Contact: U.S. Federal Communication Commission, Office of Communications Business Opportunities, 445 12th Street, SW., Telephone: 202-418-0990. E-mail: ocboinfo@fcc.gov.

Federal Deposit Insurance Corporation

Office of the Ombudsman: http://www.fdic.gov/regulations/resources/ombudsman.html.

Federal Deposit Insurance Corporation Single Point of Contact: Edward F. Gerber, Associate Ombudsman, 550 Seventeenth Street, NW., PA-1730-2122, Washington, DC 20429, Telephone: 202-942-3869, Fax: 202-942-3401, E-mail: egerber@fdic.gov.

Federal Energy Regulatory Commission

Federal Energy Regulatory Commission Single Point of Contact: Thomas Russo, Office of External Affairs, Federal Energy Regulatory Commission, 888 First Street, NE., Washington, DC 20426, Telephone: 202-502-8004, E-mail: thomas.russo@ferc.gov.

Federal Maritime Commission

Overview

The purpose of this guidance is to assist drafters of Federal Maritime Commission (“FMC” or “Commission”) rules in appropriately implementing the requirements of the Regulatory Flexibility Act (“RFA”), as amended by the Small Business Regulatory Enforcement Fairness Act (“SBREFA”). In general, SBREFA amended the RFA to establish certain formal procedural and analytical requirements (described below) for rules the agency may develop which have the potential to impose a significant economic impact on a substantial number of small entities. If a rule will impose significant economic impact on a substantial number of small entities, a more formal analysis of the potential adverse economic impacts on small entities must be prepared. Additionally, Executive Order 13272 of August 13, 2002 (“EO 13272”), requires agencies to issue and publish written procedures and policies for use in considering the potential impact of draft rules on small entities.

This guidance is not a binding Commission procedural rule. In determining and mitigating impacts on small entities, the FMC anticipates that there may be some situations in which agency staff and management must exercise considerable judgment. Nevertheless, we intend this guidance to provide an analytic and sequential structure that should be sufficient for most rulemakings. This guidance will be published on the Commission's Internet Web site (http://www.fmc.gov) for informational purposes.

The purpose of RFA/SBREFA is “to fit regulatory and informational requirements to the scale of the businesses, organizations and governmental jurisdictions subject to the regulation.” To achieve this objective, agencies are required to “solicit and consider flexible regulatory proposals and to explain the rationale for their actions to assure that such proposals are given serious consideration.” RFA/SBREFA does not require an agency necessarily to minimize a rule's impact on small entities if there are legal, policy, factual or other reasons for not doing so. RFA/SBREFA requires only that an agency determine, to the extent feasible, the rule's economic impact on small entities, explore regulatory options for reducing any significant economic impact on a substantial number of such entities, and explain its ultimate choice of regulatory approach.

Since its enactment, RFA has required every federal agency to prepare a regulatory flexibility analysis for any rule for which the agency is required to issue a notice of proposed rulemaking under the Administrative Procedure Act (“APA”) or any other statute, unless the agency certifies that the rule “will not, if promulgated, have a significant economic impact on a substantial number of small entities.” When SBREFA became law in 1996, the FMC developed procedures and guidelines to implement the applicable statutory requirements. The guidelines are being updated below to ensure continuing compliance with RFA/SBREFA requirements, as well as EO 13272.

In general, RFA/SBREFA requirements will apply to the FMC's rules subject to the notice-and-comment rulemaking requirements under the APA or any other statute. Exempt from the RFA requirement regarding a regulatory flexibility analysis or certification are Commission actions that are not rules (e.g., orders or adjudications), and rules that the Commission is not required by statute to propose before promulgating.

RFA/SBREFA Preliminary Analysis: Assessing the Impact on Small Entities

This part describes the procedures to follow for determining whether a regulatory flexibility analysis or certification of no significant economic impact on a substantial number of entities should be prepared for a proposed or final rule. It is a six-step process.

1. Is the rule subject to notice-and-comment rulemaking requirements?

As mentioned earlier, most, if not all, FMC proposed and final rules will be subject to notice-and-comment and therefore subject to RFA/SBREFA.

2. What types of entities will be subject to the rule's requirement?

The Commission has adopted small business standards pursuant to the North American Industrial Classification System (“NAICS”) published by the Executive Office of the President, Office of Management and Budget. The staff has identified the following NAICS categories and codes defined by the Small Business Administration (“SBA”) that fall within the Commission's regulatory jurisdiction:

483111 Deep Sea Foreign Transport of Freight—Vessel Operating Common Carriers (“VOCCs”)

483112 Deep Sea Transportation of Passengers—Passenger Vessel Operators (“PVOs”)

488320 Marine Cargo Handling—Marine Terminal Operators (“MTOs”)

488510 Arrangement of Transportation of Freight and Cargo—Ocean Transportation Intermediaries (“OTIs”)

Categories 483111 and 483112 are evaluated by the SBA according to their number of employees. The SBA has determined that if such a business establishment has less than 500 employees, it qualifies as a small business for SBA purposes. Business establishments in categories 488320 and 488510 are evaluated by their annual receipts in millions of dollars. In these categories, SBA determines that business establishments with annual receipts (gross annual revenues) of less than $21.5 million are small businesses. The Commission will use SBA's determinations in its review of the impact of its regulatory undertakings on small businesses.

3. What types of small entities, if any, are subject to the rule's requirements?

VOCCs, PVOs, and MTOs generally are very large companies with far in excess of 500 employees, in the case of VOCCs and PVOs, and $21.5 million in gross revenues, in the case of MTOs. These companies, as well as conferences or associations of such companies, generally are represented by retained counsel. They frequently raise informal, complex issues, and the Commission exerts considerable time and effort responding to them. Such entities are not the intended small business beneficiaries of SBREFA. OTIs, on the other hand, will be considered small businesses by the Commission.

Therefore, the Commission makes a refutable presumption that VOCCs, PVOs and MTOs are not small businesses encompassed within the programs and policies mandated by SBREFA. Nevertheless, a VOCC, PVO, or MTO that falls under SBA guidelines and seeks to be treated as a small business for Commission regulatory purposes may submit a request for such treatment to the Commission, along with payroll or gross annual revenue evidence, as applicable, to substantiate its claim and rebut the presumption.

4. What if no small entities are affected by the rule?

If a proposed rule does not affect any small entity (based on the definition of small entity provided above) RFA authorizes the Commission's Chairman to make a negative certification with respect to the rulemaking. This will be published in the Federal Register and be accompanied by the factual basis for certification as prepared by the originating Bureau/Office. This certification is subject to judicial review.

At the proposed rule stage, the affected parties have an opportunity to petition the Commission to be treated as small entities. If no such requests are received, the Chairman makes the negative certification in the final rule. If requests are received, the originating Bureau/Office, in conjunction with the Bureau of Trade Analysis (“BTA”), must determine if the petitioning entities should be treated as small businesses. If the originating Bureau/Office and BTA determine that these entities should, in fact, be treated as small businesses, the analysis set forth in step 5 will be conducted.

5. If small businesses are affected, is there a significant impact on a substantial number?

If a proposed rule is expected to have an effect on one or more small entities, a threshold analysis will be initiated by BTA with the assistance of the originating Bureau/Office. The threshold analysis is conducted to determine the extent of the impact and the number of small entities that would be affected by the proposed rule. It has been determined by the Commission that collection and maintenance of current financial data on every entity regulated by the FMC would cause undue cost and burden on the entities. Therefore, the threshold analysis is based on extrapolation of data and information from current economic trends and statistics, and the Commission's industry expertise. The results or findings of each threshold analysis are evaluated on a case-by-case basis to determine whether the proposed rule will have a significant impact on a substantial number of small businesses. In addition, any comments received on the proposed rule once it has been published in the Federal Register would be taken into consideration.

If it is determined that the proposed rule will not have a significant impact on a substantial number of small entities, a negative certification by the Commission's Chairman may be made. The certification should be published and explained in the supplementary information section of the proposed and final rules and supported in the rulemaking record as appropriate. The originating Office/Bureau, working with BTA as necessary, prepares a memorandum containing its analyses and explaining the negative certification. No further analysis is required to support the certification, unless the agency receives comments on the proposed rule's certification that raise issues about the basis of its analysis.

6. What if the rule would have a significant impact on a substantial number of small entities?

The primary purpose of the Initial and Final Regulatory Flexibility Analyses (“IRFA/FRFA”) is to identify and consider regulatory alternatives “which minimize any significant economic impact of the proposed [or final] rule on small entities.” (Sections 603 and 604 of RFA, emphasis added.) Therefore, if the threshold analysis shows that a proposed rule would have a significant impact on a substantial number of small businesses, the FMC must take the following steps:

1. Assure that small entities have been given an opportunity to participate in the rulemaking through various possible techniques. The originating Bureau/Office will implement one of the following or possible additional, measures:

a. State in an advance notice prior to issuance of the proposed rulemaking that the rule may have a significant economic effect on a substantial number of small entities;

b. Publish a general notice of the proposed rulemaking in publications that small entities are likely to receive;

c. Directly notify small entities about the rule; or

d. Hold “open conference or public hearings” about the rule.

2. Prior to publishing the proposed rule, the Commission will notify SBA (and the Office of Information and Regulatory Affairs at the Office of Management and Budget (“OMB”) as required by EO 12866).

3. Complete an IRFA, and publish it with the proposed rule. The IRFA, prepared by the originating Bureau/Office and BTA, must contain:

a. Reasons why the Commission is considering the action—this currently is in the preamble to all proposed regulations.

b. The objectives and legal basis for the proposed rule—this currently is included in a proposed rule.

c. The kind and number of small entities to which the rule will apply—to the extent possible, the originating Bureau/Office describes the industry and economic sector in total and its small and large entity segments, and explains any existing dynamics, such as trends in employment.

d. The projected recording, record keeping, and other compliance requirements of the proposed rule—this description should include an estimate of the classes of small entities that will be subject to the requirements and the type of professional skills necessary for the preparation of the report or record. A cost analysis should describe each item and estimate the costs, comparing large and small entities. It should distinguish the initial costs from recurring or operating costs. This information may be available from the paperwork burden analysis prepared under the requirements of the Paperwork Reduction Act.

e. Identify all federal rules that may duplicate, overlap, or conflict with the proposed rule—given the Commission's specific regulatory responsibility, it is extremely unlikely that any of its rules will duplicate, overlap, or conflict with the rules of other agencies. Should the situation arise, however, the Commission would need to include information for regulated entities on other rules governing the same activities. In some instances, the existence of relevant rules of other agencies will be known to the originating Bureau/Office. When legal research is required, it will be done by the Bureau of Enforcement (“BOE”).

4. The FMC then must produce an FRFA with the final rule. This analysis, prepared by the originating Bureau/Office and BTA, must contain the comments, if any, of SBA. It also must contain:

a. A succinct statement of the need for and objectives of the rule;

b. A summary of significant issues raised by public comments in response to the initial regulatory flexibility analysis, and a summary of the originating Bureau/Office's assessment of such comments;

c. The Commission's written response to any written comments submitted by SBA, unless the Chairman certifies that the public interest is not served thereby.

d. A description and an estimate of the number of small entities to which the rule will apply or an explanation of why no such estimate is available;

e. A description of the projected reporting, record keeping, and other compliance requirements of the rule, including an estimate of the classes of small entities that will be subject to the requirements and the type of professional skills necessary for the preparation of the report record; and,

f. A description of the steps the FMC has taken to minimize the significant economic impacts on small entities consistent with the stated objectives of applicable statutes, including a statement of the factual, policy, and legal reasons for selecting the alternative adopted in the final rule, and the reasons for rejecting each of the other viable alternatives.

Small Entity Compliance Guide

If a final regulatory flexibility analysis is necessary, a compliance guide also must be created. Each rule promulgated by the Commission that significantly affects a substantial number of small businesses will include a “compliance guide” that facilitates their compliance with applicable requirements. This guide will be drafted by the originating Bureau/Office.

Periodic Review

SBREFA requires that any promulgated rules that have or will have a significant economic impact on a substantial number of small entities be reviewed periodically. There currently is one Commission rule which falls under this category. The agency conducted an IRFA and FRFA for Docket No. 98-28, Licensing, Financial Responsibility Requirements, and General Duties for Ocean Transportation Intermediaries. The Commission is revising Form FMC-18, which is used in the licensing process to collect information about OTI applicants, and also is planning for an electronically-submitted version. The Commission will review the impact of the involved rule in conjunction with that effort.

• FMC Policy and Procedures Regarding Proper considerations of Small Entities in Rulemaking: http://www.fmc.gov/FMC%20Policy%20on%20Rulemakings.htm.

Federal Maritime Commission Single Point of Contact: Joseph Farrell, Director, Office of Consumer Complaints, Federal Maritime Commission 800 N. Capitol Street NW., Washington, DC 20573, Telephone: 202-523-5807, Fax: 202-257-0059, E-mail: josephf@fmc.gov.

Federal Reserve Board

Procurement (Companies wishing to conduct business with the Board): Carlos Gutierrez, Small Business Procurement Liaison, 20th and C Streets, NW., M/S 128, Washington, DC 20551, Telephone: 202-452-2458, E-mail: Carlos.Gutierrez@frb.gov.

General Financial Information for Small Businesses: General Community Development information www.federalreserve.gov/community.htm. A Guide to Business Credit for Women, Minorities, and Small Businesses www.federalreserve.gov/community.htm.

Federal Reserve Regulatory Reporting Forms: Current Reporting Forms www.federalreserve.gov/boarddocs/reportforms/default.cfm. Reporting Forms Under Review www.federalreserve.gov/boarddocs/reportforms/review.cfm.

Banking and Regulatory Information: General Banking and Regulatory information www.federalreserve.gov/banknreg.htm. Regulations (PDF files) www.federalreserve.gov/regulations/default.htm. Supervision & Regulation Letters (SR Letters) www.federalreserve.gov/boarddocs/srletters/.

Federal Reserve Board Publications Department: Publications available free-of-charge on-line www.federalreserve.gov/publications.htm. Publications available for order (on-line order form and information) www.federalreserve.gov/pubs/order.htm. Telephone: 202-452-3245, Fax: 202-728-5886, 20th and C Streets, NW., Publications Services, M/S127, Washington, DC 20551.

News and Events: General News and Events, including: testimonies and speeches; press releases; and services (e-mail notification for press releases and other unscheduled postings; personal digital assistant wireless service for press releases; and e-mail notification for testimony and speeches). www.federalreserve.gov/newsevents.htm.

Federal Reserve Board Single Point of Contact: Cindy Ayouch, Chief, Financial Reports section, 20th and C Streets, NW., M/S 41, Washington, DC 20551 Telephone: 202-452-3829. Fax: 202-728-5856. E-mail: Cynthia.M.Ayouch@frb.gov. General Federal Reserve Public Web site www.federalreserve.gov.

Federal Trade Commission

The FTC offers a broad array of resources to aid small businesses in understanding their obligations under the laws and regulations administered by the Commission. The FTC offers general information in a variety of forms to address issues and questions that small businesses frequently encounter. Such guidance usually will satisfy the needs of small businesses for guidance as to their obligations.

For example, the FTC issues many types of publications designed to explain how small businesses and others can conduct their affairs in compliance with the laws and regulations administered by the FTC. These include materials specifically directed to businesses, such as (1) compliance guides explaining the requirements of specific FTC rules in a non-technical manner; (2) industry guides addressing common compliance issues under the Federal Trade Commission Act, as applied to particular industries or particular practices; (3) guidelines and policy statements explaining the application of antitrust laws to particular practices or industries. These materials frequently contain specific examples and illustrative fact patterns that show how the agency would apply the law to a particular set of facts.

The FTC holds public workshops, conferences and other forums to discuss specific topics, which often include compliance concerns. Also, FTC staff members and Commissioners frequently give speeches and conduct programs geared to explaining statutory and regulatory requirements and to answering attendees' questions. Where the topics are of particular interest to small business, these speeches may involve appearances before groups representing small-business interests.

Other sources of information include full texts of FTC-administered statutes and rules, advisory opinions issued by the Commission or its staff, texts of speeches and testimony, and information on enforcement actions. The FTC also produces and disseminates numerous print and broadcast materials that, while directed to consumers, can benefit small businesses by identifying the practices that generate consumer protection issues between businesses and their customers and explaining how they should be handled.

These materials and information are readily available to small businesses through a variety of sources, including:

Through the FTC's Web site www.ftc.gov, and from links at www.business.gov, www.firstgov.gov, and www.sba.gov/yourgovt/federal.html.

Directly from the FTC, Room H-130, 600 Pennsylvania Ave. NW., Washington, DC 20580, or call (toll-free) 877-FTC-HELP.

Additional FTC Guides:

• How to Comply With The Children's Online Privacy Protection Rule, http://www.ftc.gov/bcp/conline/pubs/buspubs/coppa.pdf, http://www.ftc.gov/bcp/conline/pubs/buspubs/coppa.htm.

• Frequently Asked Advertising Questions: A Guide for Small Business http://www.ftc.gov/bcp/conline/pubs/buspubs/ad-faqs.htm.

Where the sources of general information are insufficient to provide the needed guidance or assistance, an FTC staff member may provide specific, informal advice or arrange for a more formal response. Small businesses may make inquiries of the Commission by various means. Inquiries can be informal and the business need not even identify itself. The FTC also has procedures for providing, where appropriate, either a staff advisory opinion or, in specified circumstances, a Commission advisory opinion. It is generally most effective to discuss the issue with a staff person before deciding whether to seek a formal advisory opinion.

Federal Trade Commission Points of Contact: Inquiries regarding consumer protection issues may be made to the FTC, Room H-130, 600 Pennsylvania Ave. NW., Washington, DC 20580; telephone (toll-free) 1-877-FTC-HELP (1-877-382-4357).

Inquiries regarding competition issues may be made to the Office of Policy and Evaluation, Bureau of Competition, Federal Trade Commission, Washington, DC 20580; telephone (202) 326-3300; fax (202) 326-2884.

Inquiries may also be directed to The Office of the Secretary, Federal Trade Commission, Washington, DC 20580, Telephone: 202-326-2515, Fax: 202-326-2496; Businesses may also contact any of the FTC's regional offices.

Merit Systems Protection Board

Merit Systems Protection Board Single Point of Contact: Richard A. Dorr, Merit Systems Protection Board, 1615 M Street NW., Suite 500, Washington, DC 20036, Telephone: 202-653-6772 ext. 1113, Fax: 202-653-7821. E-mail: richard.dorr@mspb.gov.

National Aeronautics and Space Administration

Compliance Assistance Resources

The Office of Small and Disadvantaged Business Utilization (OSDBU) promotes the utilization of small, disadvantaged and women-owned businesses in compliance with Federal laws, regulations, and policies. We assist such firms in obtaining contracts and subcontracts with NASA and its prime contractors. The OSDBU also facilitates the participation of small businesses in NASA's technology transfer and commercialization activities. Our objective is not only to ensure that small businesses are integrated seamlessly into the aerospace industrial base of the country, but that they can contribute to the performance of NASA missions. NASA supports a non-retaliation policy against small businesses as stated in NASA Policy Directive 5101.32 for the Ombudsman program.

Small businesses seeking work with NASA are directed to our Web site http://osdbu.nasa.gov. Activities in support of small businesses are listed with information on how to get involved in obtaining contracts and subcontracts. Request for Proposals open for bid can be reviewed on the Internet at http://procurement.nasa.gov.

Description of Program

To get the highest return on investment, the NASA OSDBU has designed, implemented, and facilitated user-friendly programs and initiatives. This ensures the full integration of capable and high-quality small businesses into the competitive base of contractors from which NASA regularly purchases products and services. In addition, the OSDBU has an outreach effort to communicate with its target small business constituents, as well as an in-reach program to educate NASA technical, procurement, and administrative personnel about programs and policies. The OSDBU also disseminates information about its programs through conferences, forums, training and development programs, counseling, promotional materials, and the Internet. A free three-day course called Training and Development for Small Businesses in Advanced Technologies (TADSBAT) acquaints companies with the NASA culture. This course is held four times a year at different locations nationally. In addition, two forums were developed to seek high-technology firms capable of participating in the Agency's most complex programs. The Aerospace Technology Small Disadvantaged Forum is conducted twice a year at two of the aeronautics Field Centers where three to five high-tech SDBs are selected to give presentations to senior level technical managers. From the forum's inception in 1993 through FY 2001, more than $85 million have been awarded to some of the presenters. A similar format is used for the Semi-annual Science Forums for Small Businesses. The Science Forums create a “high-level marketing opportunity” for selected small businesses to present their capabilities to earth science personnel at the Goddard Space Flight Center and to space science personnel at The Jet Propulsion Laboratory. Since the inception of this program in 1997, over $47 million in contracts and subcontracts have been awarded to participants.

As NASA's premier initiative, the Mentor-Protégé Program is designed to encourage prime contractors to assist disadvantaged companies in expanding their technical capabilities where such firms are underrepresented in the market. Prime contractors receive a variety of incentives during the source selection process, plus award fee increments during the period of the contract, if performed successfully. To spur small businesses to actively pursue opportunities for commercializing NASA technology, the OSDBU, in conjunction with the Minority Owned Business Technology Transfer Consortium (MBTTC) puts on seminars throughout the year. Companies learn about the NASA Commercialization Technology Network, how to identify technologies and work with researchers and scientists, how to apply for licensing agreements, and how to find financing sources.

“Socioeconomic Procurement as a Business Imperative” is a one-day course given four times a year at different NASA Centers to a cross-section of the Agency's technical, procurement, and administrative personnel. The course emphasizes the value-added benefit of utilizing diverse small businesses (in addition to being in compliance with laws and regulations that require it). On its own initiative, NASA has established a one percent goal as a percent of total contract value awarded yearly to Historically Black Colleges and Universities and other minority educational institutions. NASA is promoting the integration of this underutilized national resource.

To enhance the competitive advantage of small businesses in the national and world marketplace NASA has promoted the international quality management standard, ISO 9000. Since 1996, NASA has conducted seminars at major small business conferences on how to get certified. The NASA OSDBU staff became the first Federal headquarters office to become certified. The OSDBU wants to ensure that small businesses are aware of the fundamentals of an effective teaming agreement with large prime contractors. Seminars are taught by the Assistant Administrator for Small Business and are designed to enable small businesses to understand the legal structure of written teaming agreements, as well as the factors to consider when choosing a potential teaming partner. The NASA Minority Business Resource Advisory Committee (MBRAC) was organized to include executive members from disadvantaged companies who could advise the Administrator on how to increase small business involvement in NASA and remove regulatory obstacles to that end. Recommendations have been made and implemented in the areas of procurement source criteria, contract fee structure, contracting goals, and the review of subcontracting plans. The NASA Prime Contractor Roundtable was designed to facilitate an exchange between NASA and its prime contractors, mainly on how to increase the use of small businesses in their respective subcontracting programs. NASA's Assistant Administrator for Small Business is a board member of the World Association of Small and Medium Enterprises, an affiliated organization to the United Nations. Through this association, NASA is able to advise American small businesses on the advantages of competing in the world marketplace.

National Aeronautics and Space Administration Single Point of Contact: Contact the Office of Small and Disadvantaged Business Utilization by phone at 202-358-2088 or fax at 202-358-3261, NASA Headquarters in Washington, DC. If the inquiry pertains to one of our field centers, refer to the Web site listed above, which contains a listing of Small Business Specialists at each of our ten procuring activities. The Agency Small Business Ombudsman is Ralph C. Thomas, III, Assistant Administrator for Small and Disadvantaged Business Utilization. His e-mail address is ralph.thomas@hq.nasa.gov. Mailing address: NASA HQ, 300 E Street, SW., Washington, DC 20546.

National Archives and Records Administration

The National Archives and Records Administration (NARA) ensures, for citizens and Federal officials, ready access to essential evidence that documents the rights of American citizens, the actions of Federal officials, and the national experience. It establishes policies and procedures for managing U.S. Government records and assists Federal agencies in documenting their activities, administering records management programs, scheduling records, and retiring noncurrent records. NARA accessions, arranges, describes, preserves, and provides access to the essential documentation of the three branches of Government; manages the Presidential Libraries system; and publishes the laws, regulations, and Presidential and other public documents. It also assists the Information Security Oversight Office, which manages Federal classification and declassification policies, and the National Historical Publications and Records Commission, which makes grants nationwide to help nonprofit organizations identify, preserve, and provide access to materials that document American history.

See www.archives.gov for information on the National Archives and Records Administration's programs and activities. One resource for small businesses is NARA's Office of the Federal Register (see http://www.archives.gov/federal_register/index.html). That office provides ready access to the official text of Federal laws, Presidential documents, administrative regulations and notices, and descriptions of Federal organizations, programs and activities.

National Archives and Records Administration Single Point of Contact: Adrienne Thomas, Small & Disadvantaged Business Utilization and Senior Acquisition Official, National Archives and Records Administration, 8601 Adelphi Rd Suite 4100, College Park, MD 20470-6001, Telephone: 301-837-3050. E-mail: adrienne.thomas@nara.gov.

National Commission on Libraries and Information Science

National Commission on Libraries and Information Science Single Point of Contact: Robert S. Willard, Executive Director, 1110 Vermont Avenue, NW., Suite 820, Washington, DC 20005-3552, Telephone: 202-606-9204, Fax: 202-606-9203. E-mail: bwillard@nclis.gov.

National Credit Union Administration

National Credit Union Administration Single Point of Contact: The single point of contact for each federal credit union is the assigned NCUA credit union examiner. Other points of contact are accessible through the NCUA Web site and by telephone: www.ncua.gov, Telephone: 703-518-6300.

National Endowment for the Humanities

National Endowment for the Humanities Single Point of Contact: Susan G. Daisey, Director, Office of Grant Management, National Endowment for the Humanities, 1100 Pennsylvania Avenue, NW., Room 311, Washington, DC 20506, Telephone: 202-606-8494, Fax: 2020-606-8633. E-mail: sdaisey@neh.gov.

National Indian Gaming Commission

National Indian Gaming Commission Single Point of Contact:

The public will be directed to the suitable contact for their area of interest by calling our headquarters front desk at (202) 632-7003, and if they have a problem reaching the appropriate person they should speak to Renee Fox, Administrative Assistant. NIGC, 1441 L Street NW, Suite 9100, Washington, DC 20005, Telephone: 202-632-7003, Fax: 202-632-7066. Web site: www.nigc.gov.

National Labor Relations Board

The following actions have been taken to provide compliance assistance to all NLRB “customers”:

• NLRB recently issued instructions to its field offices to improve services to members of the public with limited English proficiency. These improvements would assist small businesses owned or managed by non-English speakers.

• NLRB continually seeks to improve the public information officer program in its field offices to ensure that the public is assisted properly with questions about their rights under the National Labor Relations Act (NLRA). NLRB information officers have responded to over 150,000 inquires annually. Most direct individuals to other agencies or provide explanations about the individual's rights under the NLRA. The services provided under our public information officer program assists small businesses by discouraging the filing of frivolous charges.

• NLRB recently changed its Web site related to our Standards of Service, providing clear explanations about what parties to NLRB proceedings can expect after charges and petitions are filed. Our Web site provides for a procedure for the public to comment on how our services can be improved. (www.nlrb.gov)

• NLRB is developing a policy, which will be made available to the public on our Web site, that will enhance the ability of parties to our proceedings to communicate with the Agency through e-mail, and submit certain documents electronically.

• NLRB field offices are continually encouraged to expand their outreach programs by speaking to business groups and labor organizations about our procedures, and participating in labor-management conferences where changes in the current case law are explained and discussed. Many small businesses take advantage of these conferences so that they can learn how to stay in compliance with the National Labor Relations Act.

National Labor Board Single Point of Contact: Hugo Voogd, Deputy to the Assistant, General Counsel, NLRB, 14th Street, NW., Room 10204, Washington, DC 20570, Telephone: 202-273-0057, Fax: 202-273-4274 or 1044, E-mail: hugo.voogd@nlrb.gov. Web site: www.nlrb.gov.

National Mediation Board

National Mediation Board Single Point of Contact: Denise M. Vines, Supervisory, Finance & Administration Specialist, Washington, DC 20572, Telephone: 202-692-5010. E-mail: vines@nmb.gov.

Nuclear Regulatory Commission

Nuclear Regulatory Commission Single Point of Contact: Brenda Shelton, Chief, NRC Records Mgmt Branch, OCIO, U.S. Nuclear Regulatory Commission, Washington, DC 20555-0001, Telephone: 301-415-7233, Fax: 301-415-6434, E-mail: BJS1@NRC.GOV. Web site: infocollects@nrc.gov.

Office of Personnel Management

Office of Personnel Management Single Point of Contact: Henry Wong, Office of Personnel Management, Contracting Facilities and Administrative Services Group; Telephone: 202-606-2240.

Peace Corps

The Peace Corps, as a small Federal Agency, relies on and contracts with small businesses for a majority of our products and services. The Office of Contracts maintains a list of submitted contractors to match against our posted contracting requirements. The list is maintained for one year after submission. An agency database is maintained for overseas contractors. To enroll in this database, visit our Web site.

Many short-term training contractors are needed for overseas services.

Contracting opportunities available are posted on our Web site. Visit our Web site at www.peacecorps.gov under the heading About the Peace Corps, click on Management, and then click on Contracting Opportunities. On this web page, click on learn more to see overseas training services needed and to find information about being added to our database. Contracts for over $25,000 are posted on FedBizOpps.

Any questions or for further information, contact Ms. Judy Dawes. Ms.Dawes will provide assistance and explanations in complying with Peace Corps regulatory procedures and requirements for contracting.

Peace Corps Single Point of Contact: Judy Dawes, Peace Corps, Office of Contracts, Deputy Director, 1111 20th Street, NW., Room 4444, Washington, DC 20526, Telephone: 202-692-1624, Fax: 202-692-1621, Toll Free: 800-424-8580, E-mail: jdawes@peacecorps.gov. Web site: www.peacecorps.gov.

Pension Benefit Guaranty Corporation

Customer Service Center

A toll-free number (1-800-736-2444) dedicated to pension plan administrators and plan professionals.

Office of the RegFair Representative

Functions independently of enforcement and compliance activities, addresses issues raised by businesses that sponsor defined benefit pension plans, the vast majority of which are small businesses. The RegFair Representative is also PBGC's Problem Resolution Officer for plan practitioners, and can be reached via a toll-free number (1-800-736-2444, ext. 4163) or e-mail (practitioner.pro@pbgc.gov).

Ask an Attorney

An attorney in PBGC's Office of the General Counsel is available by telephone or e-mail for informal advice on legal issues pertaining to compliance, enforcement, and other matters of concern. The General Inquiry Attorney can be reached via a toll-free number (1-800-736-2444, ext. 4020) or e-mail (AskOGC@pbgc.gov).

PBGC's Web site

(www.pbgc.gov) includes:

• The Small Business Guide to the PBGC. This easy-to-read synopsis of all of a small plan sponsor's obligations under ERISA and our regulations makes it much easier for the small business owner to understand and comply with the program requirements. The booklet also contains phone numbers and other information on where to go for help.

• Frequently Asked Questions.

• PBGC forms and instructions.

• Fact sheets on PBGC programs.

• Opinion Letters. The General Counsel issues formal opinions on legal issues under Title IV of the Employee Retirement Income Security Act (ERISA).

• The Blue Book sets forth various questions of general interest to practitioners posed by representatives of the Enrolled Actuaries Program Committee, and provides answers from PBGC staff.

• PBGC's Annual Report provides financial information and describes its customer service, enforcement and compliance activities.

Note: All resources and publications available on PBGC's Web site can also be obtained by calling our Customer Service Center (1-800-736-2444).

Outreach

PBGC's outreach efforts include:

• Meetings and conferences. PBGC representatives participate in meetings and conferences with pension practitioners to address issues of mutual concern and to get their feedback.

• Focus groups. We conduct periodic focus groups to help determine ways in which we can better serve our customers; for example, with members of the American Society of Pension Actuaries (ASPA), a group which serves primarily small businesses.

• Surveys. Surveys are conducted regularly to continuously receive feedback from our pension practitioners, the majority of whom deal with the pension plans of small businesses.

Alternative Dispute Resolution (ADR) Policy

Under PBGC's ADR policy, PBGC examines the suitability of using ADR to resolve issues that would otherwise be resolved by adversarial administrative or judicial processes. In appropriate disputes, PBGC uses ADR in a good faith effort to achieve consensual resolution of issues in controversy, including compliance and enforcement matters.

Pension Benefit Guaranty Corporation Single Point of Contact: Customer Service Center: 1-800-736-2444. Diane Morstein, Customer Service Center, Practitioner Problem Resolution Officer, Toll Free: 1-800-736-2444 ext. 4136.

The public can fully resolve most issues by calling PBGC Customer Service Center staff, 1-800-736-2444, and contacting Ms. Morstein only if the issue is not resolved to one's satisfaction.

Railroad Retirement Board

Railroad Retirement Board Single Point of Contact: Ronald J. Hodapp, Chief, Information Resources Management, Railroad Retirement Board, Telephone: 312-751-3366. E-mail: Ronald.Hodapp@rrb.gov.

Securities and Exchange Commission

Congress created the Securities and Exchange Commission in 1934 to protect investors, and to maintain fair, honest, and efficient national securities markets. The Commission provides extensive compliance assistance to the public. Small businesses subject to SEC regulation include

• issuers of securities,

• investment companies and investment advisers,

• broker-dealers, and

• transfer agents.

Other businesses affected by SEC regulation include auditors of companies whose stocks are publicly held and subject to registration with the SEC. The SEC's Office of Small Business Policy, telephone number (202-942-2950), should generally be the first point of contact for any small business that seeks compliance assistance from the Securities and Exchange Commission. This office is the primary resource for small business issuers of securities. Small regulated entities may wish to contact the appropriate Division or other office directly (Market Regulation for broker-dealers and transfer agents; Investment Management for investment companies and investment advisers; the Office of Chief Accountant for accountants).

Members of the public seeking compliance assistance for Securities and Exchange Commission regulation may contact SEC staff by mail, e-mail, or telephone.

Sources of SEC Information:

• Organization and functions of the SEC: The Investor's Advocate: http://www.sec.gov/about/whatwedo.shtml

• Brief review of governing federal regulations: The Laws That Govern the Securities Industry http://www.sec.gov/about/laws.shtml

• SEC regulation of small business capital formation and smaller public companies: Q & A: Small Business and the SEC http://www.sec.gov/info/smallbus/qasbsec.htm

• SEC regulation of securities brokers and dealers: Compliance Guide to the Regulation of Brokers and Dealers http://www.sec.gov/divisions/marketreg/bdguide.htm

• Regulations and Forms for Small Securities Issuers that issue securities subject to SEC regulation: Regulations and forms applicable to small businesses, http://www.sec.gov/divisions/corpfin/forms/smallbus.shtlml

• Regulations and forms for registered investment advisers: Investment Adviser Regulation, http://sec.gov/divisions/investment/iaregulation.shtml

• SEC forms and instructions for registered investment advisers: Investment Adviser Forms, http://www.sec.gov/divisions/investment/iard/iastuff.shtml

• Procedures for obtaining accounting or auditing advice from the SEC's Chief Accountant's Office:, Guidance on Consulting with the Office of the Chief Accountant, http://www.sec.gov/info/accountants.shtml

• Descriptions of most commonly used SEC forms: http://www.sec.gov/info/edgar/forms.htm

• SEC regulations for recordkeeping and capital requirements for securities brokers and dealers: Broker-Dealer Net Capital and Books and Records Guidance, http://www.sec.gov/divisions/marketreg/bdnetcapital.html

• Staff analyses of securities laws and regulations as applied to particular legal, regulatory, or accounting issues: Staff Interpretations, http://www.sec.gov/interps.shtml

Seminars, classes

• Annual meeting to explore means to improve capital formation for small business: Annual Government-Business Forum on Small Business Capital Formation, http://www.sec.gov/info/smallbus/sbforum.shtml

Web based compliance

• Small Cap and Private Companies: http://www.sec.gov/info/smallbus/qasbsec.htm

• Investment Adviser Registration: IARD, http://www.sec.gov/divisions/investment/iaregulation.shtml

• Registration and disclosure documents required to be and voluntarily filed electronically: EDGAR—electronic filing of SEC disclosure documents, http://www.sec.gov/edgar.shtml

Telephone service

• Office of Small Business Policy: 202-942-2950

• Division of Enforcement: 202-942-4530

• Toll-Free Consumer Information: 1-800-SEC-0330

• Small and minority business procurement: (202) 942-4990

• Public company disclosure requirements: 202-942-2825

• Office of Interpretations and Guidance for Market Regulation: 202-942-0069

• Regulation of Investment Companies and Investment Advisers: 202-942-0659

Online/e-mail service

• Inquiries about federal requirements for securities registration and corporate disclosure: http://www.cfletter@sec.gov

• Inquiries about applicability of securities laws to small business: http://www.smallbusiness@sec.gov (coming June 2003)

• Inquiries about the conduct of federally-regulated securities markets: http://marketreg@sec.gov

• Inquiries about federal regulation of investment advisers: http://www.IARDLIVE@sec.gov

• Inquiries about federal regulation of investment companies: http://www.IMOCC@sec.gov

Contacts

• Homepage: http://www.sec.gov

• News: http://www.sec.gov/news.shtml

• Regulatory: http://www.sec.gov/about/laws.shtml, http://www.sec.gov/rules.shtml

• Small Business: http://www.sec.gov/info/smallbus.shtml

• E-mail: smallbusiness@sec.gov

• Phone Number: (202) 942-2950

Securities and Exchange Commission Single Point of Contact: Gerald Laporte, Chief, Office of Small Business Policy, Division of Corporation Finance, Securities and Exchange Commission, 450 5th Street NW., Room 3501, Washington, DC 20549-0310, Telephone: 202-942-2950, Fax: 202-942-9516. E-mail: laporteg@sec.gov.

Selective Service System

Selective Service System Single Point of Contact: Calvin Montgomery, 1515 Wilson Blvd., Arlington, VA 22209, Telephone: 703-605-4038. E-mail: cmontgomery@sss.gov.

Small Business Administration

Small businesses wanting access to SBA programs should call SBA's Answer Desk toll-free or e-mail answerdesk@sba.gov. In many cases, the SBA information technician receiving a call will directly answer the question. If a matter needs attention from a particular program specialist in the caller's immediate area of the country, the SBA Answer Desk can put the caller in touch with a specific individual in an SBA District Office or program office.

SBA Answer Desk

6302 Fairview Road, Suite 300, Charlotte, North Carolina 28210, Answer Desk TTY: (704) 344-6640, 1-800-UASK-SBA (1-800-827-5722), TTY Directory [Text] or [PDF], Send e-mails to: answerdesk@sba.gov.

Other good ways to access compliance information about SBA programs are going to the SBA Web site's frequently asked questions about SBA programs at http://app1.sba.gov/faqs/ or to SBA's main web page, http://www.sba.gov/

Small Business Administration Single Point of Contact: Ms. Jacqueline K. White, Chief, Administrative Information Branch, U.S. Small Business Administration, 409 3rd Street, SW., MC5101, Washington, DC 20416-0005, Telephone: 202-205-7044, Fax: 202-481-2916. E-mail: jacqueline.white@sba.gov.

Social Security Administration

The majority of the services listed below are offered as a part of the Social Security Administration's (SSA) overall service to the business community in general, not specifically to small businesses. These services are directed to employers, businesses or organizations that serve as representative payees to Social Security beneficiaries, businesses that seek contracts with SSA and to schools. There are four primary avenues of access to these services with significant overlaps between them.

Toll-Free Telephone Service

• The Teleservice Center (TSC) number 800-772-1213 may be used by employers to verify that they have the correct Social Security number (SSN) for an employee. This verification saves the often difficult job of correcting wage reports made under an incorrect SSN. Up to five SSNs may be verified with one call if the employer can furnish their address and employer identification number (EIN). If they need to verify more than 5 but less than 50, the TSC will advise the employer to contact the nearest SSA Field Office (FO) and provide them with the FO's telephone number and address. There is a procedure for verifying more than 50, but this should not be an issue with small businesses.

• New employers wishing to apply for an EIN may also request from the TSC that the application form SS-4, Application for Employer Identification Number, be sent to them along with the Internal Revenue Service (IRS) publication, Instructions for Form SS-4.

• SSA maintains the SSA Employer Reporting Service Center at 800-772-6270 or online at http://www.ssa.gov/employer/. It can also be reached online from the SSA home page. This center can provide very detailed information on the best way for a particular employer to report wages. An employer calling the TSC but wanting more in-depth information about reporting wages, etc., will be referred to this number or Web site.

• Organizational Representative Payees are governmental or non-profit social service agencies that manage benefits for beneficiaries who are not able to manage benefits on their own. The TSC is a resource for organizational representative payees who must deal with the many issues that often arise with beneficiaries who cannot manage their own benefits. Changes in address or circumstances, non-receipt of check, work issues and many other issues can be dealt with primarily by phone.

Online Services

• The SSA Web site, http://www.ssa.gov, contains a link that directs businesses to the Business Services Online (BSO) Web site, http://www.ssa.gov/bso/bsowelcome.htm. BSO is a suite of business services for companies to conduct business with SSA. BSO consists of Registration Services, Employer Services (Submit a Wage File, W-2 Online, View Status, View Notices, and View Errors), and the Social Security Number Verification Service. The employer must be a registered BSO user to use these services; however, registration is free. Businesses needing personalized assistance with wage reporting can follow a link, http://www.ssa.gov/employer/wage_reporting_specialists.htm, to find a current list of Employer Services Liaison Officers for each region who are available to discuss specific wage reporting issues by phone. Social Security personnel at these telephone numbers can help callers with all questions about how to submit W-2's to SSA. These are not toll-free telephone numbers, however.

• SSA's Office of Acquisition and Grants (OAG) maintains a Web site, http://www.ssa.gov/oag, which contains very helpful acquisition information to assist small businesses interested in doing business with SSA. OAG's policies in general make doing business with SSA very easy for small businesses. All contracts are offered on an “open bid” basis, meaning the bidding contractor does not have to be on any specific list of approved contractors. Also, they reserve some contracts for award to small businesses only.

• SSA maintains an excellent Web site, http://www.ssa.gov/payee, dedicated to Representative Payee requirements and responsibilities. This is significant because many beneficiaries who need a payee have no family or friends willing to serve in this capacity. As a result, many small social service organizations serve as payees. This Web site makes it very easy for small businesses to apply and be approved as an organizational payee. Training materials for payees are available at the Web site, including a written lesson, a PowerPoint presentation, and a video. The written material and the PowerPoint program can be downloaded from the Web site and the video can be ordered. Also, interested parties can request the material, including the video, on a compact disk.

• SSA must verify the full time attendance of certain students by asking school officials to complete a form certifying that the student/beneficiary is in full time attendance at the school. School officials can access a dedicated Web site, http://www.ssa.gov/schoolofficials/, which explains the verification process, why the information is needed, and what is expected of them. The site also has a “Frequently Asked Questions” service. School officials are also able to download the form if they or the student lose the form they received from SSA.

Publications

• SSA publishes a quarterly newsletter in conjunction with the IRS called the SSA-IRS Reporter. This newsletter is mailed by IRS along with Form 941, Employer's Quarterly Federal Tax Return. It contains up-to-date wage and tax reporting information. While it is mailed to all employers, surveys show that it is predominately read by small business owners.

• Another helpful publication is a pamphlet called W-2 Wage Reports for Your Employees Are Filed with the SSA. This pamphlet (SSA Pub. No. 16-009, ICN 361758) is sent by IRS to all new employers. It tells the new employer about different methods of reporting wages, how to avoid errors in SSN and name, and how to get more information about Social Security.

• The Employer's Guide to Filing Timely and Accurate W-2 Wage Reports is available both in hard copy and on the SSA Web site at http://www.ssa.gov/employer/pub.htm. This pamphlet (SSA Pub. No. 16-004) explains an employer's responsibilities, how to file, where to file, how to avoid common reporting errors, how to correct them, finding help, etc.

• The publication, A Guide for Farmers, Growers and Crew Leaders (SSA Publication No. 05-10025), provides information on Social Security's benefit package and how to report income to SSA. This guide is available on SSA's Web site at http://www.ssa.gov/employer/pub.htm.

Outreach

• SSA participates in a number of IRS-related events. Staff attend six tax seminars a year presented by IRS. SSA staffs a booth at these public seminars and also provides a 1½ hour workshop on employer reporting. A number of small businesses attend these workshops. SSA staff are also present at eight payroll reporting conferences each year in different parts of the country. These conferences are attended primarily by larger businesses, but they are open to any business.

• SSA holds The National Payroll Reporting Conference on an annual basis at its Baltimore headquarters. This conference was established in 1990 as a forum for Federal agencies and the business community to gather, identify, discuss and resolve common wage and tax reporting issues. This conference has had a significant positive impact on the accuracy of the wage data submitted to SSA. The conference also provides the business community an opportunity to have a voice in initiatives that will ultimately affect the way it does business. The conference is attended by many small companies from the surrounding states as well as by national payroll organizations and service bureaus. Due to budget limitations, the 2003 conference will not be held; however, the Agency expects to sponsor the conference again in 2004.

• SSA's Office of Small and Disadvantaged Business Utilization provides assistance to small businesses through scheduling one-on-one meetings and participating in various procurement trade shows and conferences.

Social Security Administration Single Point of Contact: Liz Davidson, SSA Reports Clearance Officer, 1338 Annex Building, 6401 Security Boulevard, Woodlawn, MD 21235, Telephone: 410-965-0454, Fax: 410-965-6400, E-Mail: Liz.Davidson@ssa.gov.

Surface Transportation Board

The Surface Transportation Board (STB) is an independent adjudicatory body administratively housed within the Department of Transportation. STB is responsible for the economic regulation of interstate surface transportation, primarily railroads, within the United States. STB's mission is to ensure that competitive, efficient and safe transportation services are provided to meet the needs of shippers, receivers and consumers. In furtherance of its mission, STB provides a number of services that small businesses might find useful:

• General Information: 202-565-1764

• Procurement: 202-565-1701

• Public Services: 202-565-1592 (how to participate in agency proceedings)

• Library/publications: 202-565-1668

• Rail Consumer Assistance (toll free): 866-254-1792

• Home page: www.stb.dot.gov.

• Publications: Overview-Abandonments and Alternatives to Abandonments

Surface Transportation Board Single Point of Contact: Anne K. Quinlan, 1925 K Street, NW., Ste. 894, Washington, DC 20423-0001, Telephone: 202-565-1727, E-mail: quinlana@stb.dot.gov.

Tennessee Valley Authority

Business Incubation Program

Over the years, TVA has provided capital to help communities establish business incubators to support new and expanding enterprises. The TVA Business Incubation Network includes 24 operational sites across the Valley where tenants share services, equipment, and building space. TVA provides technical and financial assistance to members of the TVA-supported network and also maintains the Business Incubator Tenant Loan Fund, a revolving fund that helps tenants meet short-term needs for cash flow and operating capital.

Online Business Resource Center

TVA's Web-based center serves as an information gateway to valuable public and private resources on entrepreneurship, financial and technical assistance, industrial organizations, and business services. Topics range from setting up a business plan to finding capital, paying taxes, and marketing. The site provides access to the programs and services offered by TVA, other Tennessee Valley organizations, and nationwide resources. Visit the Online Business Resource Center at www.tva.com/econdev/obr.

Minority Business Development Program

TVA supports the growth and expansion of minority and socially and economically disadvantaged businesses with diverse packages of technical, capital, and managerial assistance. A key feature of the program is the Minority Business Development Loan Fund (MBDLF), a revolving fund that provides for loans ranging from $50,000 to $500,000. Through the MBDLF and the Valley Coalition, a partnership between TVA and regional banks, TVA promotes job creation and stimulates capital investment in the Valley.

Small and Minority Business Mentoring

Small and minority businesses that provide services to TVA receive support through TVA's mentoring program, which helps these firms grow and enhance their business operations. Assistance includes matching suppliers with business opportunities, identifying key business contacts, encouraging joint ventures and alliances, and linking TVA procurement needs with manufacturers and businesses in the Tennessee Valley.

Partners

TVA's economic development programs are delivered in partnership with public and private organizations. Some of our partners are:

• Distributors of TVA power

• Chambers of commerce and local economic development authorities

• TVA-supported business incubators

• State departments of economic and community development

• The U. S. Small Business Administration

• The U. S. Department of Commerce's Minority Business Development Agency

• Small business development centers

• U.S. Department of Agriculture Rural Development

• The Valley Coalition, a public/private lending and business assistance partnership between TVA and participating Valley financial institutions.

Small Business Assistance Web site: http://www.tva.com/econdev/smallbiz.htm

Tennessee Valley Authority Single Point of Contact: Philip S. McMullan, Project Manager, Business Growth and Innovation, Telephone: 615-232-6227, Fax: 615-232-6189, E-mail: psmcmullan@tva.gov, Web site: www.tva.com/econdev/obr.

U.S. Access Board

The U.S. Access Board (Board) develops and maintains accessibility guidelines and standards for the built environment, transportation vehicles, electronic and information technology and telecommunications. These design requirements are used to enforce several different laws, including the Americans with Disabilities Act. A key part of the Board's mission is providing technical assistance on the design requirements it develops and maintains. Information about any of the Board's guidelines or standards or accessible design can be obtained through the Board's toll free numbers at 800-872-2253 (v) and 800-993-2822 (TTY); through fax at 202-272-0081; mail addressed to U.S. Access Board 1331 F St. NW Ste. 1000, Washington, DC 20004; e-mail to ta@access-board.gov or from the Board's Web site http://www.access-board.gov.

In addition, the Board participates in a wide range of training programs and conferences throughout the country every year. Information on upcoming events is available from the Board and is posted on its Web site at http://www.access-board.gov/research&training/Training.htm. The Board also publishes a host of guidance materials on its design requirements and other aspects of accessible design. Board publications are available in a variety of accessible formats. Copies of all Board publications are available free from the Board, including through its Web site at http://www.access-board.gov/indexes/pubsindex.htm.

U.S. Access Board Single Point of Contact: Elizabeth Stewart, Deputy General Counsel, U.S. Access Board, 1331 F Street NW., Suite 1000, Washington, DC 20004, Telephone: 202-272-0042, TTY: 202-272-0082, Fax: 202-272-0081, E-Mail: steward@access-board.gov.

[FR Doc. 03-16214 Filed 6-26-03; 8:45 am]

BILLING CODE 3110-01-P